FEDERAL COMMUNICATIONS COMMISSION

47 CFR Part 52

[WC Docket Nos. 13-97, 07-243, 20-67; IB Docket No. 16-155; FCC 23-75; FR ID 183540]

Numbering Policies for Modern Communications

AGENCY: Federal Communications Commission.

ACTION: Final rule.

SUMMARY: In this document, the Federal Communications Commission (Commission) adopts rules regarding direct access to numbers by providers of interconnected Voice over internet Protocol (VoIP) services. The Commission takes this action in furtherance of Congress' directive in the Pallone-Thune Telephone Robocall Abuse Criminal Enforcement and Deterrence (TRACED) Act to examine ways to reduce access to telephone numbers by potential perpetrators of illegal robocalls. These actions safeguard U.S. numbering resources and consumers, protect national security interests, promote public safety, and reduce opportunities for regulatory arbitrage.

DATES: Effective December 20, 2023, except for the amendments to 47 CFR 52.15(g)(3)(ii)(B) through (F), (I), (K), (L), and (N) and (g)(3)(x)(A) (amendatory instruction 3), which are delayed indefinitely. The amendments to 47 CFR 52.15(g)(3)(ii)(B) through (F), (I), (K), (L), and (N) and (g)(3)(x)(A) will become effective following publication of a document in the Federal Register announcing the effective date.

FOR FURTHER INFORMATION CONTACT: Wireline Competition Bureau, Competition Policy Division, Mason Shefa, at (202) 418-2494, mason.shefa@fcc.gov. For additional information concerning the Paperwork Reduction Act information collection requirements contained in this document, send an email to PRA@fcc.gov or contact Nicole Ongele, Nicole.Ongele@fcc.gov.

SUPPLEMENTARY INFORMATION: This is a summary of the Commission's Second Report and Order (Second Report and Order) in WC Docket Nos. 13-97, 07-243, 20-67, and IB Docket No. 16-155, FCC 23-75, adopted on September 21, 2023, and released on September 22, 2023. The document is available for download at https://docs.fcc.gov/public/attachments/FCC-23-75A1.pdf. To request materials in accessible formats for people with disabilities (e.g., Braille, large print, electronic files, audio format, etc.), send an email to FCC504@fcc.gov or call the Consumer & Governmental Affairs Bureau at (202) 418-0530 (voice) or (202) 418-0432 (TTY).

Final Paperwork Reduction Act of 1995 Analysis

This document may contain new or modified information collection requirements subject to the Paperwork Reduction Act of 1995 (PRA), Public Law 104-13. This document will be submitted to the Office of Management and Budget (OMB) for review under section 3507(d) of the PRA. OMB, the general public, and other Federal agencies will be invited to comment on the new or modified information collection requirements contained in this proceeding.

Congressional Review Act

The Commission sent a copy of the Second Report and Order to Congress and the Government Accountability Office pursuant to the Congressional Review Act, see 5 U.S.C. 801(a)(1)(A).

Amendatory Instructions

Amendatory instructions are the standard terms that the Office of the Federal Register uses to give specific instructions on how to change the CFR. Due to the extensive number of technical and conforming amendments to 47 CFR 52.15(g)(3), including redesignations of existing paragraphs within the current rule, that will become effective 30 days following publication of this document, the Commission is utilizing the Office of the Federal Register's amendatory instruction “revise and republish” to codify the revisions to that paragraph. Use of this combined instruction allows the Commission to republish 47 CFR 52.15(g)(3) 30 days following publication of this document instead of using piecemeal amendments to revise the CFR. All other amendments, including subsequent amendments to 47 CFR 52.15(g)(3) that are delayed indefinitely, are made pursuant to specific amendatory instructions.

Synopsis

1. We adopt the Second Report and Order to further stem the tide of illegal robocalls perpetrated by interconnected VoIP providers, to protect the Nation's numbering resources from abuse by foreign bad actors, and to advance other important public policy objectives tied to the use of our Nation's limited numbering resources. To that end, we strategically update the Commission's direct access to numbering process. First, we require applicants seeking direct access to numbering resources to make robocall-related certifications to help ensure compliance with our rules targeting illegal robocalls. Second, we require applicants to disclose and keep current information about their ownership, including foreign ownership, to mitigate the risk of providing bad actors abroad with access to our numbering resources. Third, we require applicants to certify to their compliance with other Commission rules applicable to interconnected VoIP providers to bolster awareness and compliance with such rules. Fourth, we require applicants to comply with state laws and registration requirements that are applicable to businesses in each state in which numbers are requested. Fifth, we require applicants to include a signed declaration that their applications are true and accurate. Sixth, and finally, we codify the Wireline Competition Bureau's (Bureau) application review, application rejection, and authorization revocation processes.

2. Section 52.15(g)(2) of the Commission's rules governs the application process for numbering resources. It limits access to telephone numbers to entities that demonstrate they are authorized to provide service in the area for which they are requesting numbers. The North American Numbering Plan (NANP) is the basic numbering scheme for telecommunications networks located in the United States and its territories, Canada, and parts of the Caribbean. NANP telephone numbers are ten-digit numbers consisting of a three-digit area code, followed by a three-digit central office code, followed by a four-digit line number. The Commission has interpreted § 52.15(g)(2) to require evidence of either a state certificate of public convenience and necessity (CPCN) or a Commission license or authorization. Because only telecommunications carriers were able to provide this proof of authorization, in 2015, the Commission revised its numbering rules and adopted a process by which interconnected VoIP providers could satisfy this authorization requirement and thus obtain numbers directly from the Numbering Administrator. In the Second Report and Order, we refer to both the North American Numbering Plan Administrator and the Pooling Administrator as the Numbering Administrator. Although these functions are described separately in our rules, see, e.g., 47 CFR 52.13, 52.20, they are currently combined under a single Commission contract. The Commission found that permitting interconnected VoIP providers to obtain telephone numbers directly from the Numbering Administrator would improve responsiveness in the number porting process and improve the visibility and accuracy of number utilization, which would in turn enable the Commission to more effectively protect our Nation's limited numbering resources. Moreover, the Commission found that this change to its authorization process would enhance its ability to enforce rules governing interconnected VoIP providers, and help stakeholders and the Commission identify the source of routing problems and take corrective actions.

3. The Commission's rules now require interconnected VoIP providers obtaining numbering resources to comply with both the requirements applicable to telecommunications carriers seeking to obtain numbering resources and certain interconnected VoIP-specific requirements for applying for, and maintaining, a Commission authorization for direct access to numbering resources. Section 52.15(g) currently requires an interconnected VoIP applicant for direct access to numbering resources to: provide its company name, headquarters address, Operating Company Number (OCN), parent company's OCN(s), and the primary type of business in which the numbering resources will be used; provide contact information for personnel qualified to address issues relating to regulatory requirements, numbering, compliance, 911, and law enforcement; comply with applicable Commission rules related to numbering, including, among others, numbering utilization and optimization requirements (in particular, filing Numbering Resource Utilization and Forecast (NRUF) Reports); comply with guidelines and procedures adopted pursuant to numbering authority delegated to the states; and comply with industry guidelines and practices applicable to telecommunications carriers with regard to numbering; file requests for numbers with the relevant state commission(s) at least 30 days before requesting numbers from the Numbering Administrator; provide proof it is or will be capable of providing service within sixty (60) days of the numbering resources activation date in accordance with 47 CFR 52.15(g)(2), i.e., “facilities readiness”; certify that it complies with its Universal Service Fund contribution obligations, its Telecommunications Relay Service contribution obligations, its NANP and local number portability administration contribution obligations, its obligations to pay regulatory fees, and its 911 obligations; certify that it has the requisite technical, managerial, and financial capacity to provide service; include the name of its key management and technical personnel, such as the Chief Operating Officer and the Chief Technology Officer, or equivalent; and state that none of the identified personnel are being or have been investigated by the Commission or any law enforcement or regulatory agency for failure to comply with any law, rule, or order; and certify that no party to the application is subject to a denial of Federal benefits pursuant to section 5301 of the Anti-Drug Abuse Act of 1988.

4. The Commission directed and delegated authority to the Bureau to “implement and maintain the authorization process.” Bureau staff review applications for conformance with procedural rules, and if the rule requirements are satisfied, release an “Accepted-for-Filing Public Notice” seeking comment on the application. Applications are deemed granted by the Commission on the 31st day after the release of the public notice, unless the Bureau notifies the applicant that the grant will not be automatically effective. The Bureau may halt the auto-grant process if (1) an applicant fails to respond promptly to Commission inquiries, (2) an application is associated with a non-routine request for waiver of the Commission's rules, (3) timely filed comments on the application raise public interest concerns that require further Commission review, or (4) the Bureau determines that the request requires further analysis to determine whether the application serves the public interest.

5. Once an interconnected VoIP provider has Commission authorization to obtain numbering resources, it may request numbers directly from the Numbering Administrator. Interconnected VoIP providers that apply for and receive Commission authorization for direct access to numbering resources “are subject to, and acknowledge, Commission enforcement authority.” Failure to comply with the obligations set out by the Commission “could result in revocation of the Commission's authorization, the inability to obtain additional numbers pending that revocation, reclamation of unassigned numbers already obtained directly from the Numbering Administrators, or enforcement action.” The Commission delegated authority to both the Bureau and the Enforcement Bureau to order the revocation of authorization and to direct the Numbering Administrator to reclaim any of the service provider's unassigned numbers.

6. Based on lessons learned from reviewing scores of direct access applications since the 2015 VoIP Direct Access Order, 80 FR 66454 (Oct. 29, 2015), the Commission began to consider ways to update the interconnected VoIP provider application requirements to add important information that is useful or necessary to the Bureau's public interest review. To date, the Bureau has requested such information from applicants on a case-by-case basis where appropriate. For example, certain applications with significant foreign ownership that raise potential national security and/or law enforcement issues have been filed. Additionally, direct access applications have been challenged by commenters raising concerns about intercarrier compensation and call routing or call blocking practices.

7. In August 2021, the Commission adopted a Further Notice of Proposed Rulemaking (FNPRM), 86 FR 51081, seeking comment on how to improve the interconnected VoIP direct access application process to address the identified gaps in the direct access application process, the continued scourge of illegal robocalls, national security, and number resource exhaust. We received comments from a wide range of stakeholders, including state public utility commissions, interconnected VoIP providers, industry standards groups and trade associations, and consumer advocates.

Discussion

8. The application process for interconnected VoIP providers' direct access to numbering is the first line of defense in mitigating the risk of providing scarce numbering resources to bad actors. It is thus critically important that the rules governing this process prevent, to the greatest extent possible, interconnected VoIP providers that engage in unlawful robocalling or spoofing, or otherwise threaten the national security and law enforcement interests of the United States, from accessing or retaining our Nation's numbering resources. While our direct access rules currently contemplate that the Bureau may request supplemental information as necessary to conduct a thorough public interest review, the rule changes we adopt in this document make certain previously supplemental showings a mandatory prerequisite before the Bureau accepts new applications for filing and grants such applications in the public interest. The rules we adopt in this document strike an appropriate balance between establishing necessary checks on interconnected VoIP direct access applicants and authorization holders and fostering an efficient direct access process that has, in part, facilitated the ongoing technological transition to advanced IP communications networks.

Ensuring That Authorization Approvals Serve the Public Interest

9. First, we tighten our application requirements to ensure that the Bureau receives sufficient detail from interconnected VoIP applicants to make informed, public-interest-driven decisions about their direct access applications and thereby protect the public from bad actors. These new requirements will also increase our enforcement capabilities should we find that providers are skirting our rules. Upon the effective date of these rules, we require explicit acknowledgment of compliance with all robocall regulations; implement disclosure and update requirements regarding ownership and control; require certification of compliance with other applicable Commission regulations and certain state law; and add a declaration requirement to hold applicants accountable for the truthfulness and accuracy of their direct access applications.

Certifying Compliance With Robocall-Related Rules

10. We adopt our proposal to require a direct access applicant to certify that it will use numbering resources lawfully and will not encourage, assist, or facilitate illegal robocalls, illegal spoofing, or fraud. Protecting Americans from the harmful effects of unwanted and illegal robocalls remains the Commission's top consumer protection priority. More than just a nuisance, illegal robocalls continue to expose millions of American consumers to harmful risks. The Commission has estimated that $10.5 billion is lost annually by consumers due to illegal robocalls, not accounting for the non-quantifiable losses suffered by consumers and the erosion of confidence in the Nation's telephone network. The Commission has also found that the potential benefits resulting from eliminating the wasted time and nuisances caused by illegal scam robocalls would exceed $3 billion annually. The Commission receives more complaints about such unwanted calls than about anything else—approximately 119,000 last year alone. The Commission received approximately 193,000 such complaints in 2019, 157,000 in 2020, 164,000 in 2021, and 119,000 in 2022.

11. To help curb illegal robocalls and enhance the Bureau staff's ability to protect the public interest from such calls, the VoIP Direct Access FNPRM, 86 FR 51081 (Sept. 14, 2021), proposed requiring applicants to certify in their direct access applications to numerous statements regarding illegal robocalls and the Robocall Mitigation Database and to disclose whether they are subject to a robocall-related action, investigation, or inquiry from various enforcement entities. We proposed requiring applicants for direct access to certify that they: (1) will use numbering resources lawfully; (2) will not encourage nor assist and facilitate illegal robocalls, illegal spoofing, or fraud; (3) will take reasonable steps to cease origination, termination, and/or transmission of illegal robocalls once discovered; (4) will cooperate with the Commission, Federal, and state law enforcement and regulatory agencies with relevant jurisdiction, and the industry-led registered consortium, regarding efforts to mitigate illegal or harmful robocalling or spoofing and tracebacks; (5) have filed in the Robocall Mitigation Database; (6) have either (A) fully implemented the STIR/SHAKEN caller ID authentication protocols and framework or (B) have implemented either STIR/SHAKEN caller ID authentication or a robocall mitigation program for all calls for which it acts as a voice service provider, and if the latter, have described in the Database the detailed steps they are taking regarding number use that can reasonably be expected to reduce the origination and transmission of illegal robocalls. We also proposed requiring direct access applicants or authorization holders to inform the Commission if they are subject to a Commission, law enforcement, or regulatory action, investigation, or inquiry due to their robocall mitigation plan being deemed insufficient or problematic, or due to suspected unlawful robocalling or spoofing, and to acknowledge this requirement in their applications. We received substantial opposition from a wide range of commenters in response to these proposals. Many commenters argued that our proposed approach would risk creating redundancies and cause confusion because interconnected VoIP providers are already subject to the Commission's comprehensive framework to combat illegal robocalls. Some commenters also argued that our proposals would not effectively reduce the origination of illegal robocalls, or would impact interconnected VoIP providers' competitiveness with other types of providers by imposing on them unique burdens. Upon consideration of the record, we adopt a more straightforward approach that avoids these concerns and instead cross-references the relevant Commission rules targeting illegal robocalls in our new certifications.

12. Robocall-related certifications. We revise § 52.15(g)(3) of the Commission's rules to require an interconnected VoIP provider seeking direct access to numbering resources to certify that: the applicant will not use the numbers obtained pursuant to an interconnected VoIP provider numbering authorization to knowingly transmit, encourage, assist, or facilitate illegal robocalls, illegal spoofing, or fraud, in violation of robocall, spoofing, and deceptive telemarketing obligations under 47 CFR 64.1200, 64.1604, and 64.6300 through 64.6308 and 16 CFR 310.3(b) [As voice service providers, interconnected VoIP providers must comply with all regulations that target illegal robocalls that are generally applicable to all voice service providers. Additionally, interconnected VoIP providers acting as terminating, originating, intermediate, and/or gateway providers must accordingly also comply with the specific regulations targeting illegal robocalls that are applicable to each type of provider. Some commenters propose additional changes to the robocalling rules that are not necessarily tied to direct access to numbers or limited to interconnected VoIP providers. We decline to adopt or address these proposals, as they are beyond the scope of this proceeding]; the applicant has fully complied with all applicable STIR/SHAKEN caller ID authentication and robocall mitigation program requirements and filed a certification in the Robocall Mitigation Database as required by 47 CFR 64.6301 through 64.6305 [Accordingly, should the Commission deem the applicant's filing insufficient and remove it from the Robocall Mitigation Database, the applicant may not validly certify to this statement. As noted above, we proposed requiring interconnected VoIP providers to certify that they will cooperate with various governmental agencies and the industry-led registered consortium regarding efforts to mitigate illegal or harmful robocalling or spoofing and tracebacks. In our recent Caller ID Authentication Sixth Report and Order, 88 FR 29035 (May 5, 2023), we expanded the scope of a similar Robocall Mitigation Database certification requirement to cover all providers. We thus decline to adopt our proposal here to avoid imposing redundant requirements]; and neither the applicant nor any of its key personnel identified in the application are or have been subject to a Commission, law enforcement, or any regulatory agency investigation for failure to comply with any law, rule, or order, including the Commission's rules applicable to unlawful robocalls or unlawful spoofing. Our rules already require interconnected VoIP direct access applicants to certify that none of the key personnel identified in their applications are or have been subject to a Commission, law enforcement, or regulatory agency investigation for failure to comply with any law, rule, or order. By adding the language regarding the Commission's rules applicable to unlawful robocalls or unlawful spoofing to the end of the provision, we do not narrow the broader scope of the certification, as VON suggests, but rather place additional emphasis on the need for applicants to disclose robocalling compliance issues to the Commission. Additionally, we note that this certification is consistent with the reporting requirements recently adopted by the Commission for all providers to certify as to whether they have been the subject of a formal Commission, law enforcement, or regulatory agency action or investigation with accompanying findings of actual or suspected wrongdoing due to the filing entity transmitting, encouraging, assisting, or otherwise facilitating illegal robocalls or spoofing. We decline at this time to adopt our proposal to expand the sphere of proceedings (i.e., to include “actions” and “inquiries” in addition to investigations) covered by this certification, as we agree with RingCentral that the proposal was vaguely worded and therefore did not “provide[ ] sufficient notice to enable providers to comply.” Additionally, we emphasize that being subject to an investigation would not necessarily disqualify an applicant from receiving direct access authority. In the event an applicant is not able to certify that it is not subject to a Commission, law enforcement, or regulatory agency investigation, an applicant can explain in its application why the investigation should not disqualify the applicant from receiving direct access authorization. For example, an applicant could provide information rebutting a warning letter (e.g., a cease-and-desist letter) of suspected illegal robocalling received from the Commission or Federal Trade Commission (FTC) and/or a description of the steps the applicant has taken to respond to such a letter.

13. The additional certifications we adopt in this document strike a balance between acknowledging interconnected VoIP providers' disproportionate role in the facilitation of illegal robocalls, and ensuring that our approach is minimally burdensome and competitively neutral. This approach accords with our recent decision in the Caller ID Authentication Sixth Report and Order, 88 FR 29035 (May 5, 2023), not to adopt heightened robocall mitigation standards for interconnected VoIP providers. Consistent with the record here, we do not adopt new obligations regarding STIR/SHAKEN caller ID authentication or robocall mitigation specifically for interconnected VoIP providers, but instead merely require those providers to certify that they will comply, or have complied, with certain preexisting requirements. By requiring applicants to certify compliance with preexisting rule sections, we ensure that our approach does not cause confusion, and remains accurate should we decide to revise the robocall-related obligations applicable to voice service providers in the Call Authentication Trust Anchor or other robocall-related dockets. These certifications are not redundant and serve an important proactive educational function—alerting interconnected VoIP providers at the outset of the direct access application process of important obligations, thereby helping to ensure robust compliance and foster a more trustful numbering ecosystem. As explained below, the certifications carry the weight of the Commission's requirement that an officer or responsible official of the company attests under penalty of perjury, pursuant to § 1.16 of the Commission's rules, that all statements in the application are true and accurate. These certifications will thus serve the public interest by further deterring direct access applicants from engaging in unlawful robocalling or spoofing, and by giving the Commission another enforcement mechanism to use against bad actors. Our requirement that applicants certify that they are not subject to an investigation, including a robocall-related investigation, paired with our preexisting rule that authorization holders must maintain the accuracy of their certifications, will keep us informed of such investigations as they arise. The Commission publishes an up-to-date list of robocall-related cease-and-desist letters that it has sent to voice service providers. Due to the persistence of robocalls and associated complaints nationwide, we unsurprisingly received broad support for adding robocall-specific certifications to direct access applications from governmental entities. RingCentral additionally supports our approach of strengthening our enforcement of already existing requirements.

14. Some commenters contend that these new certifications could incentivize interconnected VoIP providers to obtain numbers from the secondary market, rather than by applying for direct access. This, they posit, would be a negative outcome because direct access to numbers facilitates traceback requests and gives regulators better visibility into number utilization. While we agree with commenters regarding the benefits of direct access, we disagree that our new certifications will push interconnected VoIP providers into the secondary market. The additional certifications we adopt in this document are minimally burdensome as they do not add any new substantive obligations, and are only incremental to the existing certifications required by the Commission's rules. We are therefore confident that the incremental cost of filing such certifications will not materially impact an interconnected VoIP provider's decision regarding numbering resource acquisition. We note the other issues raised by TelSwitch are outside the scope of this proceeding.

15. Notification of investigations post-grant. In the VoIP Direct Access FNPRM, 86 FR 51081 (Sept. 14, 2021), we proposed requiring direct access authorization holders to inform the Commission if the authorization holder is subject—either at the time of its application or after its filing or its grant—to a Commission, law enforcement, or regulatory agency action, investigation, or inquiry due to its robocall mitigation plan being deemed insufficient or problematic, or due to suspected unlawful robocalling or spoofing. We decline to adopt our proposal at this time. Because we adopt a new certification in this regard (as explained above), and because the Commission's rules already contain a requirement that an authorization holder “[m]aintain the accuracy of all . . . certifications in its application,” and “file a correction with the Commission . . . within thirty (30) days” of any changes, adopting this proposal is unnecessary. By taking this approach, we address RingCentral's concern regarding adding a potentially confusing additional layer of reporting requirements beyond what is already required by the current rule. We are satisfied that our current requirement to keep all certifications up-to-date will capture our new robocall-related certifications, and will keep us apprised of any new investigations involving interconnected VoIP direct access authorization holders.

Enhanced Disclosure and Review of Ownership and Control of Applicants

16. We adopt rules to require the disclosure and review of foreign ownership and control of interconnected VoIP direct access applicants. The Commission has recognized that “[i]llegal robocalling often originates from sources outside the United States,” and “[t]he Commission and Congress have long acknowledged that illegal robocalls that originate abroad are a significant part of the robocall problem.” Indeed, in 2020, the North American Numbering Council (NANC), the Commission's advisory committee of outside experts on telephone numbering matters, stated that “it is a long-standing problem that international gateway traffic is a significant source of fraudulent traffic.” The Commission accordingly strives to stay abreast of foreign companies using U.S. telephone numbers. For example, it has stressed that “[e]nsuring that foreign voice service providers using U.S. telephone numbers comply with the certification requirements prior to being listed in the database is especially important in light of the prevalence of foreign-originated illegal robocalls aimed at U.S. consumers and the difficulty in eliminating such calls.” Foreign ownership of providers serving our Nation's consumers also is a matter of concern for the Commission generally, as it may pose national security and/or law enforcement risks to the United States. VoIP providers require particular scrutiny in the robocall area as well, given that “[t]he rising tide of robocalls and the emergence of VoIP go hand in hand.” In fact, “[t]oday, widely available VoIP software can allow bad actors with malicious intent to make spoofed calls with minimal technical experience and cost.” As a result, “[a]llowing [VoIP providers with foreign ownership or control] direct access to numbers and critical numbering databases raises a number of potential risks, including the impact to number conservation requirements; questions related to jurisdiction, oversight, and enforcement of numbering rules; consideration of assessment of taxes and fees upon foreign-owned entities; and potential national security and law enforcement risks with access to U.S. telecommunications network operations.” These factors make it important for the Commission to know about foreign ownership of interconnected VoIP providers seeking direct access to our Nation's finite numbering resources, especially because a number of providers with substantial foreign ownership have applied to obtain direct access to numbering resources since the 2015 VoIP Direct Access Order, 80 FR 66454 (Oct. 29, 2015).

17. The current rules on direct access applications, however, do not require interconnected VoIP providers to disclose any information about their ownership or affiliation, nor do they specify a process to evaluate applications with substantial foreign ownership. The VoIP Direct Access FNPRM, 86 FR 51081 (Sept. 14, 2021), therefore proposed requirements aimed at ascertaining the foreign ownership and control of interconnected VoIP applicants and tentatively concluded that applicants should disclose any 10% or greater “equity and/or voting interest, or a controlling interest.” It also proposed requiring such applicants to identify any interlocking directorates with a foreign carrier, as well as any affiliation with a foreign carrier. As discussed below, we now adopt ownership disclosure requirements for interconnected VoIP direct access applicants, and relatedly conclude that applications from such providers will be placed on a “non-streamlined” processing track if the applicant has a foreign owner whose interest exceeds the reporting threshold set forth in § 63.18(h) of the Commission's rules, which we incorporate for purposes of ownership reporting here.

18. Ownership disclosure requirements. We adopt a rule to require interconnected VoIP applicants for a Commission direct access authorization to provide all of the information, disclosures, and certifications required by § 63.18(h) and (i) of the Commission's rules. If the applicant does not have information required to be provided under § 63.18(h) and (i), the application must include a statement to that effect. This approach ensures the requirements for interconnected VoIP direct access applicants match the requirements for international section 214 applications, as well as applications for submarine cable landing licenses (which likewise cross-reference § 63.18(h)). It also ensures the requirements for interconnected VoIP direct access applicants will remain consistent with the requirements for international section 214 applicants regardless of any modifications to § 63.18(h) or (i). For example, the Commission adopted changes to § 63.18(h) in 2020. The amendments to § 63.18(h), however, are not yet effective. The Commission also has a pending rulemaking proceeding seeking comment, among other things, on whether to adopt a new ownership reporting threshold that would require disclosure of certain 5% percent or greater direct and indirect equity and/or voting interests with respect to applications for international section 214 authority and modification, assignment, transfer of control, and renewal of international section 214 authority, and on whether to apply the 5% reporting threshold to encompass all equity and voting interests, regardless of whether the interest holder is a domestic or foreign individual or entity. In that proceeding, the Commission stated, “[t]he current 10% reporting threshold may not capture all foreign interests that may present national security, law enforcement, foreign policy, and/or trade policy concerns.” If the Commission amends § 63.18(h) by adopting a 5% reporting threshold, we direct the Bureau to seek comment on whether applicants for a direct access authorization should disclose information, including the name, address, citizenship, and principal business, of any individual or entity that directly or indirectly owns 5% percent or greater equity and/or voting interests, or a controlling interest, of the applicant. Based upon the Bureau's review of the comments, we further delegate to the Bureau the authority to address any such final threshold requirement in a public notice. We find that adopting a reporting threshold consistent with that used in other Commission application processing regimes promotes certainty and transparency. This approach also ensures there is no undue burden on direct access applicants, since many companies already provide the same or similar information to the Commission in other contexts.

19. Adopting the same standards that will be used for international section 214 applications, [Note that applicants seeking assignment or transfer of control of an international section 214 authorization are also subject to the ownership-disclosure requirement in § 63.18(h) pursuant to § 63.24.] in particular, is appropriate given our focus on national security and law enforcement concerns and reducing risks of illegal robocalling facilitated by potential bad actors abroad. Requiring ownership information, from a U.S.- or foreign-owned applicant, will assist Bureau staff in their existing practice of identifying applications that require further review to determine whether the direct access applicant's ownership, control, or affiliation raises national security and/or law enforcement concerns. Indeed, “[i]t is axiomatic that the Commission needs accurate information in order to carry out its work, and this is especially true with regard to compliance with foreign ownership disclosures. In several recent cases the Commission has found that foreign ownership of telecommunications companies providing services in the United States may pose a risk to national security, law enforcement interests, or the safety of U.S. persons.” As noted above, several providers with substantial foreign ownership have applied to obtain direct access to numbering resources since adoption of the 2015 VoIP Direct Access Order, 80 FR 66454 (Oct. 29, 2015), making the initial review process especially important to address the risk of providing access to our numbering resources to potential bad actors abroad. This requirement also will cause applicants to conduct robust due diligence, thus increasing the reliability of their information.

20. The record largely supports instituting some form of ownership disclosure for direct access applicants. We decline to adopt a higher threshold because, as we recognized in the international section 214 context, “although a 10-percent threshold is somewhat more burdensome [than a higher threshold], that increased burden does not outweigh the potential value to the Commission of being able to review the additional information about the applicant's ownership. Leaving the threshold at 10% or greater will help us determine whether a particular application raises issues of national security, foreign policy, or law enforcement risks.” VON and Microsoft, however, argue that a foreign ownership reporting requirement “will add unnecessary time and expense to the review process without any obvious purpose or anticipated reduction in illegal robocalls.” While we recognize that an ownership disclosure requirement constitutes an additional step in the direct access application process for interconnected VoIP providers, we conclude that the public interest in receiving this information outweighs any incremental cost on applicants. Interconnected VoIP providers that seek access to telephone numbers on a permanent basis acquire both the rights and obligations associated with using that access in the public interest, and we must ensure that access does not result in illegal practices that harm consumers. As noted above, the ownership disclosures we adopt are like those required in several other Commission application processes, so requiring the same kind of disclosure here is not unduly onerous. Twilio argues that applicants for growth numbering resources should not have to disclose ownership information in those applications because they would already have been granted access to numbers. We are not revising the rules on applications for growth numbering resources in 47 CFR 52.15(g)(4). We do, however, address below the duty to update ownership disclosures when the relevant information changes. Moreover, an applicant that is a privately held entity should know its investors and maintain records of their significant direct or indirect equity and/or voting interest holders in the ordinary course of business. An applicant that is a publicly held company is also required to identify its interest holders in requisite filings with the U.S. Securities and Exchange Commission (SEC). As in other contexts requiring the same kind of ownership disclosure, the relatively minor burden of disclosing ownership information in a direct access application is outweighed by the public interest benefit of the Commission having the information when the application is filed, in time to address potential issues raised by foreign ownership before granting an applicant rights or privileges.

21. Non-streamlined pleading cycle for direct access applicants with reportable foreign ownership. As proposed in the VoIP Direct Access FNPRM, 86 FR 51081 (Sept. 14, 2021), we amend our rules to state that the Bureau will remove applications from streamlined processing whenever the applicant has reportable foreign ownership, meaning ownership or control by a foreign entity that meets or exceeds the threshold for disclosure under § 63.18(h) of the Commission's rules, as now incorporated in § 52.15(g)(3). The rule formalizes the current practice of taking applications with substantial foreign ownership off the streamlined processing cycle.

22. Allowing sufficient time for review of applications with reportable foreign ownership will help the Bureau identify and assess potential national security and law enforcement risks raised by such applications, and provide transparency to applicants regarding the timeframe for processing their applications. Twilio supported this proposal, and no commenter opposed it.

23. Referral of applications with reportable foreign ownership to Executive Branch agencies. We decline to automatically refer to the Executive Branch agencies interconnected VoIP providers' direct access applications that have reportable foreign ownership or control. There was a lack of strong record support for automatic referrals. Moreover, given the limited number of referrals to date, it is more prudent and efficient to continue the current practice under § 1.40001(a) of the rules, where the Commission, in its discretion, makes case-by-case referrals of direct access applications if it finds that “the specific circumstances of an application require the input of the Executive Branch as part of [the Commission's] public interest determination of whether an application raises national security, law enforcement, foreign policy, and/or trade policy concerns.”

24. Development of standard questions. We also decline to develop a list of “Standard Questions” for interconnected VoIP applicants with reportable foreign ownership or control. While the Commission has adopted “a standardized set of national security and law enforcement questions (Standard Questions) that certain applicants and petitioners . . . with reportable foreign ownership will be required to answer as part of the Executive Branch review process,” there was no strong record support for developing such questions for all interconnected VoIP direct access applicants with reportable foreign ownership. Given the lack of a developed record and our decision not to automatically refer applications to the Executive Branch agencies when an interconnected VoIP provider has reportable foreign ownership, we find it appropriate to rely on the current practice, under which Commission staff and the Executive Branch agencies can request additional information from applicants on a case-by-case basis.

25. Duty to update ownership information. To ensure ownership information remains up to date, we revise § 52.15(g)(3) to require interconnected VoIP providers that obtain direct access authorization under the revised rules to submit an update to the Commission and each applicable state (i.e., each state where the provider has acquired or applied to receive numbers from the state at the time of the ownership change) within 30 days of any change to the reportable ownership information disclosed in their direct access applications, or if a provider that previously did not have reportable ownership information comes to have reportable foreign ownership information. For example, if a provider had no reportable ownership information at the time of its application but a person or entity later came to possess more than 10% of the equity in the provider, the provider would have to report the change. If a provider had reportable ownership information at the time of its application but the ownership changes (e.g., a holder of 10% of the equity came to hold 50%), the provider would have to report than change. But if there is a change in ownership that does not reach the reportable level (e.g., a holder of two percent of the equity came to hold six percent), no update would have to be filed. Alternatively, if the provider that obtained direct access authorization under our revised rules did not have reportable ownership percentages and information (whether on domestic or foreign owners) at the time of its original application, but subsequently has reportable information, we require it to provide the information as an update to its authorization within a 30-day timeframe. We also delegate authority to the Bureau to direct the Numbering Administrator to suspend number requests if the Bureau determines, based on updated information, that further review of the direct access authorization is necessary.

26. This requirement builds upon the current rules, which require each interconnected VoIP provider with direct access to numbering resources to maintain the accuracy of all the contact information and certifications submitted in its application, and to file a correction with the Commission and each applicable state within 30 days of any change to the contact information or certifications. Going forward, obtaining such updates regarding changes to ownership information will help us ensure that direct access authorization holders' ownership does not change post-authorization in a manner contrary to the public interest, such as introducing a potential bad actor-owner that facilitates illegal robocalling, poses a threat to the national security and law enforcement interests of the United States, or otherwise engages in conduct detrimental to the public interest. Under the current rules, bad actors could surreptitiously strengthen their influence on authorization holders by increasing their ownership after the Commission grants the initial authorization, thereby evading Commission oversight and undermining enforcement efforts if that change in ownership levels did not have to be reported. By requiring all ownership information to be updated within 30 days of a change, potential bad actors can no longer remain hidden from view. In fact, such information can be used to determine whether a change in authorization is warranted (e.g., making the authorization be conditioned on a mitigation agreement, or even revoking the authorization).

27. The National Association of Attorneys General supports requiring interconnected VoIP authorization grantees to update their ownership information after a change. Some commenters oppose it, however, arguing that such a requirement would be onerous and unnecessary, especially with regard to information that has no bearing on the Commission's objective to prevent foreign bad actors from gaining direct access to U.S. numbers, and is not competitively neutral because non-VoIP providers would not have to provide it. Twilio also questions whether the 30-day deadline is truly necessary to advance the Commission's objectives, rather than an annual or biennial update.

28. We reject these arguments because we believe the public interest benefit of a requirement to keep all ownership data up to date within 30 days of a change outweighs the minimal burden on grantees. As stated in the VoIP Direct Access FNPRM, 86 FR 51081 (Sept. 14, 2021), “obtaining such updates will help us to ensure that the ownership [of grantees] does not change post-authorization in a manner that evades the purpose of application review.” No commenter proposed a “materiality threshold” to determine when ownership data updates must be filed, and we therefore decline to adopt one. Absent an update requirement, applicants could skirt the more extensive review that applies to applications with reportable foreign ownership simply by delaying the investment by a foreign entity. This could even occur unintentionally as the result of an unexpected investment or buyout by a foreign entity. In either case, the update requirement helps ensure authorization holders with reportable foreign ownership receive an appropriate level of scrutiny in light of their changed ownership, so the Commission could consider, for example, whether the provider should enter a robocall mitigation agreement. We also conclude that requiring updates within 30 days, rather than annually or biennially, is a better way to ensure the Commission has current information, and that providing updated ownership information is relevant to our efforts to eliminate illegal robocalls for all the reasons stated above regarding providing foreign ownership data in applications. Finally, while non-VoIP direct access applicants are not covered by this new rule, we do not believe the burden on interconnected VoIP providers is so large as to affect competition, and in any event do not foreclose imposing this same duty on non-VoIP applicants in the future.

29. Filing procedure. We require all updated or corrected ownership information to be filed in the Electronic Comment Filing System (ECFS) through the Direct Access intake docket (Inbox 52.15) and via email to DAA@fcc.gov, unless the Bureau specifies another method. We note that the Bureau may request additional documentation as necessary.

30. State submission requirement. Interconnected VoIP providers obtaining direct access authorization under the revised rules we issue in this document also are required to submit updated or corrected ownership information to the states from which the authorization holder has acquired or requested numbers at the time of the ownership change. Such information should be submitted to states in the same manner the providers would submit a correction or update to their original applications.

31. Executive Branch agencies' review of corrected information. As proposed in the VoIP Direct Access FNPRM, 86 FR 51081 (Sept. 14, 2021), we also delegate authority to the Bureau to direct the Numbering Administrator, pursuant to its applicable procedures, to suspend all pending and future requests for numbers if the updated or corrected ownership information submitted by an authorization holder indicates a material change or discloses new information such that additional investigation is necessary to confirm that the authorization still serves the public interest. In the foreign ownership context, if updated or corrected ownership information leads the Commission to refer the authorization holder to the Executive Branch agencies, the Bureau shall also direct the Numbering Administrator to suspend all pending and future requests for numbers until such review is complete and a determination is made by the Bureau.

32. Use of numbers after submission of updated or new information. Finally, we note that authorization holders may continue to use numbers they obtained prior to submitting updated or corrected ownership information to the Bureau unless the Bureau determines that the authorization must be revoked per the formal revocation procedure we adopt below.

Certifying Compliance With Other Commission Rules

33. Under our current rules, interconnected VoIP providers seeking to obtain numbers must comply with various obligations that are designed to enhance public safety, prevent access stimulation and intercarrier compensation abuse, ensure that Commission broadband maps are accurate, and ensure that providers actually provide the service they describe. As we do in the robocall context above, we increase our enforcement capabilities and strengthen those rules by requiring interconnected VoIP providers to make certifications regarding their compliance with those rules in their direct access applications.

34. Public safety certification. Consistent with our proposal in the VoIP Direct Access FNPRM, 86 FR 51081 (Sept. 14, 2021), we revise § 52.15(g)(3) of the Commission's rules to require interconnected VoIP applicants for direct access authorization to certify that they comply with the Communications Assistance with Law Enforcement Act (CALEA). We also require applicants to provide evidence in their application that demonstrates their compliance with the Commission's part 9 public safety rules and CALEA. To preserve flexibility and minimize burdens, we decline to prescribe precisely what evidence should be submitted to satisfy this requirement. We note that technical specifications and call-flow diagrams “have been helpful to Commission staff in assessing direct access applicants' compliance with 911 service and CALEA requirements in some cases.” Evidence of 911 service agreements may also be helpful to the Bureau's review. We additionally delegate to Bureau or other Commission staff the right to request additional documentation from the applicant to demonstrate compliance with these public safety obligations, where necessary.

35. As with the other certifications we adopt in this document, this new certification requirement will provide the Commission with additional enforcement abilities should the Bureau find that an authorization holder does not in fact comply with our public safety rules or CALEA. Our requirement to provide evidence of compliance with these obligations merely formalizes the preexisting Bureau practice of requesting such evidence after an application's submission. By requiring this evidentiary showing at the outset, we promote efficiency by ensuring Bureau staff have the relevant documentation when they begin their application review. Additionally, because the ability to provide public safety answering points (PSAPs) with caller location and call-back numbers necessitates two-way interconnection with the public switched telephone network (PSTN), this requirement will help Bureau staff assess whether an applicant actually provides interconnected VoIP service.

36. Several parties support this measure. The Maine Public Utilities Commission suggests that we should additionally require providers to submit the 911-related documentation to state regulatory and public safety agencies. Additionally, Lumen and USTelecom argue that this documentation submission requirement would be unduly burdensome if applied retroactively to existing authorization holders. We understand these concerns and decline to make this requirement retroactive at this time. We decline to take this approach because state regulatory agencies vary widely in terms of their jurisdiction over interconnected VoIP providers. While some states treat interconnected VoIP providers like communications service providers for specified purposes, others have statutes expressly limiting or removing their jurisdiction over interconnected VoIP providers altogether. A general requirement to send such documentation to state regulatory agencies would not be tailored appropriately to ensure only those agencies that have an interest in that information would receive it. Tailoring such a requirement to apply only to those states with jurisdiction over interconnected VoIP providers is also undesirable because it would create regulatory asymmetry that is not competitively neutral. We address additional state-related issues in Part III.A.4 below.

37. Access Stimulation certification. The VoIP Direct Access FNPRM, 86 FR 51081 (Sept. 14, 2021), sought comment on possible changes to our direct access authorization rules to help combat Access Stimulation and other forms of intercarrier compensation arbitrage. In April of this year, we adopted a Second Report and Order, 88 FR 35743 (June 1, 2023) (Access Arbitrage Second Report and Order), in the Access Arbitrage docket which closed perceived loopholes in our Access Stimulation rules that some entities, including interconnected VoIP providers, were exploiting to the detriment of interexchange carriers (IXCs) and their end-user customers. Given the revisions to our Access Stimulation rules adding new requirements for internet Protocol Enabled Service (IPES) Providers—which include interconnected VoIP providers—we adopt a new certification that cross-references those new rules to help ensure applicants for direct access to numbers are aware of, and comply with them. We thus revise § 52.15(g)(3) of the Commission's rules to require interconnected VoIP providers applying for direct access to numbers to certify that they comply with our Access Stimulation rules found in 47 CFR 51.914.

38. We adopt this requirement to help alleviate concerns that direct access authorization will be used to evade our Access Stimulation rules when the applicant is directly or indirectly related to an entity suspected of being an access stimulator. In our recent Access Arbitrage Second Report and Order, 88 FR 35743 (June 1, 2023), we noted that, “[d]espite multiple orders and investigations making clear the Commission will not tolerate access arbitrage, some providers continue to manipulate their call traffic or call flows in attempts to evade our rules. Recently, [local exchange carriers (LECs)] have inserted [IPES] Providers into call paths as part of an ongoing effort to evade our rules and to continue to engage in access stimulation. After inserting an IPES Provider into the call flow, the LEC then claims that it is not engaged in access stimulation as currently defined in our rules.” This requirement will provide an additional enforcement mechanism if it is violated, including the potential for revocation of the provider's direct access authorization. As with the other certifications we adopt in this document, we expect the threat of enforcement action related to a false certification to deter applications by those that would violate our rules, including those related to Access Stimulation.

39. Commenters in both the Direct Access and our Access Arbitrage dockets have expressed support for this type of certification requirement as a means to deter interconnected VoIP providers from engaging in schemes to avoid the Access Stimulation rules. Verizon, for example, stated that “IPES providers with direct access should acknowledge and affirmatively agree to observe the Commission's access stimulation rules. Access stimulating IPES providers would face consequences for making false certifications to the Commission.” AT&T agreed with Verizon, stating that “[s]uch a requirement will give the Commission an additional arrow in its quiver in the fight against harmful arbitrage schemes and should not place an undue administrative burden on IPES providers.” We believe that these benefits Verizon and AT&T raise outweigh the concerns from some commenters that certifications that require interconnected VoIP providers to state their compliance with existing rules are duplicative or unnecessary.

40. We decline to adopt additional requirements beyond the certification at this time, as our newly adopted Access Stimulation rules are designed to help address the issues that commenters have noted in this docket. Should we find that more action is necessary to restrict interconnected VoIP providers' engagement in Access Stimulation schemes, we reserve the ability to revisit our conclusion here. We also agree with CCA that many of the suggestions we received in the record “go well beyond the scope of the Further Notice, [and] are not specifically related to interconnected VoIP providers directly obtaining telephone numbers.”

41. FCC Form 477 and 499 filings. Under our rules, interconnected VoIP providers that have qualifying subscribers must file FCC Forms 477 and 499. Interconnected VoIP providers that have one or more revenue-generating end-user customers must file FCC Form 477, a semiannual reporting obligation that, for interconnected VoIP providers, collects data regarding (1) the number of service subscriptions sold to their own end-user customers by census tract and, for each census tract, shall provide the number of subscriptions provided under consumer service plans; and (2) the service characteristics for its subscriptions in each state. As proposed in the VoIP Direct Access FNPRM, 86 FR 51081 (Sept. 14, 2021), we revise § 52.15(g)(3) of the Commission's rules to require interconnected VoIP providers that must file FCC Forms 477 and 499 to provide evidence that they have complied with these obligations, and any successor filing obligations, when filing a direct access application. Should providers not have evidence of filing these forms, their certification should explain the reasons why. The 2015 VoIP Direct Access Order, 80 FR 66454 (Oct. 29, 2015), noted that during the procedural review of direct access applications, Bureau staff routinely verify that both FCC Forms 477 and 499 have been filed, if applicable. For providers that do not have eligible subscribers at the time of filing their direct access applications, we expect but do not require such providers to submit evidence of their submissions when they become obligated to do so under our rules. Our new rule formalizes this inquiry into an application requirement which, again, promotes efficiency and adds another layer of enforcement capability. We note that submission of FCC Forms 477 and 499 filing receipts would constitute prima facie evidence of compliance with these rules. The FCC Form 477 filing system will no longer be used to collect new FCC Form 477 submissions, and will remain open only for filers to make corrections to existing FCC Form 477 filings for data as of June 30, 2022 and earlier. We also note that, beginning with data as of December 31, 2022, providers, including interconnected VoIP providers, are required to submit the following data using the Broadband Data Collection (BDC) filing system: fixed and mobile broadband and voice FCC Form 477 subscription data, fixed and mobile BDC broadband availability data, BDC mobile voice availability data.

Compliance With State Laws

42. The 2015 VoIP Direct Access Order, 80 FR 66454 (Oct. 29, 2015), and current rules require an interconnected VoIP provider to acknowledge a duty to comply with state guidelines and procedures adopted under the numbering authority the Commission has delegated to the states. In the VoIP Direct Access FNPRM, 86 FR 51081 (Sept. 14, 2021), the Commission asked whether to revise this rule to state that interconnected VoIP providers holding a numbering authorization must comply with state numbering requirements and other applicable requirements for businesses operating in the state. Having considered the record, we now revise § 52.15(g)(3) to make clear that interconnected VoIP applicants and authorization holders that request numbering resources from the Numbering Administrator for a particular state must acknowledge that their direct access authorization is subject to compliance with both state numbering requirements and to the laws, regulations, and registration requirements applicable to them as businesses operating in that state, not merely state requirements specifically issued under Commission delegated numbering authority. Upon the effective date of these new rules, direct access applicants must expressly acknowledge in their applications that they will comply with such laws.

43. One of the original purposes of the requirement to comply with state delegated numbering authority law was to promote competitive neutrality by requiring interconnected VoIP providers with direct access to numbering resources to be subject to the same numbering requirements as carriers getting numbers for that state. Unfortunately, it appears some interconnected VoIP providers have assumed they have no duty to abide by other state requirements because § 52.15(g)(3)(i)(B) focuses solely on delegated numbering authority. That is not the Commission's intent and is inconsistent with the goal of competitive neutrality. The revision we adopt in this document addresses this unintended consequence and helps keep interconnected VoIP providers on a more equal footing with local exchange carriers (LECs) (which must comply with state general registration requirements pursuant to their certificates of public convenience and necessity and status as businesses operating in the states). It will directly help avoid confusion over the duty to comply with applicable state laws beyond delegated numbering matters. Equally important, it will discourage interconnected VoIP direct access authorization holders from requesting numbering resources for states where they do not serve end-user customers, a practice that contributes to the exhaust of numbering resources in that state. By clarifying that VoIP direct access authorization holders must also comply with other applicable state laws, such as registration requirements, the new requirement will make it more difficult for interconnected VoIP providers to evade measures that enable states to generally address other consumer-protection issues, including unlawful robocalling. For example, state commissions assert that requiring interconnected VoIP direct access authorization holders to comply with state law through their registration requirements will ensure that state authorities have the information needed to identify providers involved in unlawful robocalling.

44. Several state commissions support this requirement. They observe there has been confusion, or at least disagreement, about the extent to which interconnected VoIP providers with direct access to numbering resources must comply with general state-law duties applicable to other businesses obtaining numbers in the states, such as LECs. In Maine, for example, voice service providers must register with the Maine Public Utilities Commission's (PUC) third-party administrator for the Maine Universal Service Fund and the Maine Telecommunications Education Access Fund. The Maine PUC staff, however, has found it does not always have the information it needs to determine whether interconnected VoIP providers doing business in Maine are contributing to these funds, which it says is required by state law. Other state commissions note similar issues.

45. In light of this record evidence, we disagree with commenters who say there has been no confusion about the scope of the duty to comply with state law or that this revised rule amounts to a new delegation of numbering authority to the states. Our revised rule in this document concerns state laws, regulations and registration requirements applicable to them as businesses operating in a given state, separate from any Commission delegation of numbering authority. We are not delegating any new numbering authority to the states here. Rather, the purpose is to make plain that direct access applicants must acknowledge that their authorization is contingent on complying not only with state requirements issued under delegated numbering authority, but also with other independently applicable state obligations, such as registration requirements, that would apply to them as businesses operating in the state.

46. We also disagree with commenters who argue that requiring interconnected VoIP providers to acknowledge that their direct access authorization is subject to compliance with applicable state requirements would undermine the Commission's 2004 Vonage Order and its preemption of most state regulation of interconnected VoIP service. As explained in the Vonage Order, that decision “express[ed] no opinion” on the applicability to an interconnected VoIP provider of a state's “general laws governing entities conducting business within the state, such as laws concerning taxation; fraud; general commercial dealings; and marketing, advertising, and other business practices.” The Commission also stated in that order that “as we move forward in establishing policy and rules for . . . IP-enabled services, states will continue to play their vital role in protecting consumers from fraud, enforcing fair business practices, for example, in advertising and billing, and generally responding to consumer inquiries and complaints.” Accordingly, even after the Vonage Order, WC Docket No. 03-211, Memorandum Opinion and Order, 19 FCC Rcd 22404 (2004), the Commission has permitted states to require interconnected VoIP providers to contribute to state universal service funds and pay state fees related to 911/E911 service. VON and Microsoft raised concerns that our revised rule could mistakenly be interpreted by state commissions as expanding the permissible scope of state regulation of interconnected VoIP services. To avoid any doubt, we clarify that, as stated in the VoIP Direct Access FNPRM, 86 FR 51081 (Sept. 14, 2021), by adopting this revised rule we do not address the statutory classification of interconnected VoIP services as telecommunications or non-telecommunications services, nor do we address, expand or alter, the scope of states' authority to regulate interconnected VoIP service, as reflected in the Vonage Order and established Commission policy. In a separate preemption argument in this record, Terra Nova Telecom claims interconnected VoIP services compete with the Commercial Mobile Radio Service (CMRS) and that Congress has preempted state market entry or rate regulation of CMRS under section 332(c)(3) of the Communications Act of 1934, as amended. Terra Nova submits, therefore, that the Commission should not allow states to impose requirements on interconnected VoIP services that they could not impose on CMRS, such as the kinds of requirements the Louisiana PSC seeks to impose on Terra Nova before issuing it telephone numbers. But Terra Nova points to no authority stating that the scope of preemption is identical for interconnected VoIP services and CMRS, and section 332(c)(3) is specific to CMRS. Terra Nova also takes issue with several requirements it alleges the Louisiana PSC seeks to impose on it as a prerequisite to giving numbers to Terra Nova (which already was granted direct access authority by this Commission). Terra Nova contends that several of these requirements amount to market-entry or public utility-style regulation of the kind preempted by the Vonage Order. We lack adequate information to resolve this specific dispute in the context of this general rulemaking.

47. We also disagree with arguments that the revised rule is too vague because it does not specify the particular state requirements that could apply to interconnected VoIP providers with direct access to numbering resources. Any such list inevitably would risk being incomplete or quickly outdated. The point of our rule revision is to have applicants acknowledge their direct access authorization is subject to compliance with applicable laws, regulations, and registration requirements for businesses operating in the state(s) where the authorization holder seeks to obtain numbers. We note, moreover, that any interconnected VoIP provider obtaining numbering resources from a state pursuant to § 52.15(g)(3)(i)(C) presumably would already be evaluating its potential duties under state law (e.g., registration with a secretary of state or tax authorities, possible obligations under state universal service funds or regarding 911 fees) to an extent that allows it to acknowledge whether it will comply with state law. Our new application requirement therefore should not impose any added burdens on interconnected VoIP applicants beyond their normal preparation to begin dealing with a state and possibly providing service there.

48. “Minimal contacts.” In order to help minimize numbering exhaust, the Commission asked whether it should adopt a “minimal contacts” requirement that interconnected VoIP providers would have to meet in order to obtain numbering resources in a given state. Having considered the record, we refer this issue to the NANC, as discussed below in Part III.C. The Commission has not explicitly prohibited the use of numbering resources requested for one state to serve customers in other states, whether the entity obtaining the numbers is a LEC or an interconnected VoIP provider holding a direct access authorization. We recognize that a LEC is more likely to have contacts with the state for which it has requested numbering resources, such as physical facilities, a CPCN, and a state registration. At this time, however, we do not have sufficient record evidence to fully assess this issue, and attempting to define “minimal contacts” for interconnected VoIP providers here would risk unintentionally imposing a new requirement that numbering resources requested for a particular state be used to serve at least some customers in that state. Absent such a new requirement, which is outside the scope of this proceeding, a “minimal contacts” requirement would put the Commission into the position of having to evaluate the specific contacts of any direct access authorized interconnected VoIP provider for each particular state in which it seeks numbers, which inevitably would be a complex, provider-specific inquiry, and one for which we lack helpful Commission precedent. The California PUC commented that if “minimal contacts” means having customers in the state and operating authority by the state, it would support a “minimal contacts” requirement. Other state public utility commissions supported instituting a “minimal contacts” requirement but did not offer any further detail regarding the standard.

49. Nomadic interconnected VoIP providers. The revised state-law acknowledgment requirement we adopt applies to all interconnected VoIP providers requesting numbering resources in a particular state, even if their services are non-fixed or nomadic and not directly linked to the state corresponding to the respective area code. The fact that some interconnected VoIP providers provision non-fixed (or nomadic) services does not alter the applicability of the state-law acknowledgment requirement. RingCentral contends that state requirements other than those issued under delegated numbering authority cannot apply to them because nomadic VoIP services “are impossible to segregate into intrastate and interstate components” and therefore are subject to “exclusive federal jurisdiction.” Non-fixed or nomadic interconnected VoIP service providers request numbering resources from states and therefore place burdens on each such state's numbering resources just as their fixed-VoIP counterparts do. It would also burden state commissions to determine the precise geographic locations of non-fixed providers each time a numbering request was received. State commissions strongly supported applying the state-law acknowledgment requirement to non-fixed and nomadic interconnected VoIP providers, and we agree with such a requirement.

50. Directing the Numbering Administrator to deny applications. We delegate authority to the Bureau to direct the Numbering Administrator to deny requests for numbering resources from an interconnected VoIP provider when the Commission is notified (e.g., by a state commission) that the provider is not complying with independently applicable state legal requirements. It is important that there be some clear consequence of not complying with applicable state laws when obtaining numbering resources from a state based on a Federal numbering authorization. Our actions here also are consistent with current practice, under which, when a state reports that a provider is not complying with state requirements, the Numbering Administrator may deny that provider's numbering requests. Although we believe that existing practices conform with § 52.15 of the Commission's rules, making the requirement explicit clarifies the process so as to leave no doubt as to these requirements.

Ensuring the Accuracy of Application Contents

51. We revise § 52.15(g)(3) of the Commission's rules to require an officer or authorized representative of the applicant to submit a declaration under penalty of perjury, pursuant to § 1.16 of the rules, attesting that all statements in the application and any appendices are true and accurate. We specify that false statements or certifications made to the Commission may result in rejection of an application or revocation of an authorization. Consistent with warnings included in filings for other Commission authorizations and CPNI certifications, we remind applicants that willful false statements are also punishable by fine and/or imprisonment, and/or forfeiture. Requiring a declaration under penalty of perjury will help ensure applications are accurate and that applicants are taking the application process seriously. The new declaration will also dissuade bad actors from filing false information or filing altogether out of fear of committing the crime of perjury and suffering increased punishment.

52. Our rules prohibit any applicant for any Commission authorization from making material false statements or omissions of material information in its dealings with the Commission. Our addition of a declaration under penalty of perjury is consistent with the international section 214 application process, and the authorization process for many other FCC authorizations, in which applicants include a verification executed by an officer or other authorized representative that the information included in the filing is true and accurate. This requirement is also consistent with Robocall Mitigation Database filings, which must include a declaration under penalty of perjury pursuant to § 1.16 of the Commission's rules. We further note that many direct access applicants already provide this type of declaration voluntarily.

Other Issues

53. Declining to expand direct access to numbers. Under our existing rules, VoIP direct access applicants must provide interconnected VoIP services rather than one-way VoIP or other types of services that make use of numbers. The Commission sought comment on whether to allow one-way VoIP or other types of service providers to have direct access to numbers. We elect not to do so at this time. The record does not support this expansion of direct access and, indeed, contains some opposition to doing so until the guardrails proposed in the VoIP Direct Access FNPRM, 86 FR 51081 (Sept. 14, 2021), are adopted and effectively implemented. By avoiding unnecessary or premature expansion of direct access to such providers, we better protect valuable and limited numbering resources from potential bad actors, both because fewer entities will have direct access to numbers and because interconnected VoIP providers engage in commercial agreements with carriers and have obligations and checks that one-way providers may not. One-way VoIP providers have fewer regulatory obligations than traditional carriers or interconnected VoIP providers. Our action is also consistent with the rationale in the 2015 VoIP Direct Access Order, 80 FR 66454 (Oct. 29, 2015), for limiting direct access authorizations to interconnected VoIP providers. That order found that interconnected VoIP providers are more likely than other VoIP providers to need direct access to numbers because they are more likely to provide service used by consumers to replace “plain old telephone service” (POTS), and because outbound-only VoIP service does not require telephone numbers.

54. Facilities readiness certification. The VoIP Direct Access Order, 80 FR 66454 (Oct. 29, 2015), provided examples of what an applicant could submit to show “facilities readiness” as required by 47 CFR 52.15(g)(3)(i)(D). We sought comment on whether to revise § 52.15(g)(3) of the direct access rules to explicitly specify the documents that will be allowed to satisfy the “facilities readiness” requirement. Comments on the issue were divided, and, having considered the issue further, we decline to revise our rule. Rather, we conclude that the examples of technical documentation and information that applicants may submit to demonstrate facilities readiness in the VoIP Direct Access Order, 80 FR 66454 (Oct. 29, 2015), will continue to suffice. This approach preserves the flexibility of interconnected VoIP providers to submit information that is relevant to the unique characteristics of their networks. We also reaffirm our delegation of authority to the Bureau to request additional documentation on a case-by-case basis as necessary.

55. Know-your-customer certification. Section 64.1200(n)(3) requires voice service providers to “[t]ake affirmative, effective measures to prevent new and renewing customers from using its network to originate illegal calls, including knowing its customers and exercising due diligence in ensuring that its services are not used to originate illegal traffic.” The VoIP Direct Access FNPRM, 86 FR 51081 (Sept. 14, 2021), sought comment on whether to require direct access applicants to certify that they “ `know their customer' through customer identity verification.” Comments on this topic were mixed. After considering the record, we decline to adopt a specific know-your-customer certification at this time. As discussed below in the section addressing our referrals to the NANC, interconnected VoIP providers often resell numbers that they have obtained through the direct access process to third-party providers. Additionally, our decision to study the issue of number resale further, our adoption of new certifications as part of interconnected VoIP providers' applications for direct access authorization, and potential future action regarding number resale and indirect access recipient certifications, may accomplish the same objectives as would adopting a know-your-customer certification. We therefore reserve for future determination whether to adopt such a certification in the direct access application context.

Application Review and Authorization Oversight

56. In this section, we adopt measures to facilitate greater transparency regarding the review of direct access applications, make explicit our procedures for rejecting applications, and expand the bases on which direct access authorizations may be revoked and adopt a process for such revocations.

Codifying the Process for Reviewing Direct Access Applications

57. As proposed, we revise § 52.15(g)(3) of the Commission's rules to formalize the process for reviewing direct access applications. We direct Bureau staff to conduct a due-diligence review of an applicant's direct access application prior to seeking comment on it. This due-diligence review shall include, but is not limited to, determining whether the applicant is the subject of a past or pending Enforcement Bureau inquiry or whether the applicant has reportable foreign ownership. This initial review process is critical to ensure illegal robocallers and other bad actors do not gain access to finite numbering resources. As noted above, we direct the Bureau to withhold placing any application submitted by an applicant with reportable foreign ownership on streamlined processing (that is, withhold issuing an “Accepted-for-Filing Public Notice”). Additionally, the Bureau retains the authority to determine, at its discretion, whether to accept an application for non-streamlined filing so that it may further analyze whether a grant is in the public interest during and after the prescribed comment period. Furthermore, if the Bureau finds that an application raises public interest concerns, it may withhold placing it on streamlined processing until those concerns are addressed through applicant supplements or otherwise, even if the application otherwise meets procedural requirements. One commenter generally supported this approach, and no commenter opposed it.

58. The action we take in this document formalizes this preexisting practice and makes explicit the Bureau's authority in the rules. Specifically, the rules shall state that the Bureau will review direct access applications to ensure that they are complete and appropriate for streamlined treatment before the Bureau issues a public notice accepting the application for filing. By taking this step, we draw on our similar procedure governing review of international section 214 applications, and promote greater transparency and predictability for applicants regarding the process and timing applicable to a potential authorization. We note that applicants must provide additional information as requested by the Bureau during and after its initial review of a direct access application. Such responses must be submitted to the Bureau using the same method for submitting original application materials, unless otherwise directed. The majority of commenters supported Commission efforts to fight illegal robocalling and fraud, and staff diligence in reviewing applications and coordination with the Enforcement Bureau is part of ensuring potential robocallers do not gain access to numbering resources.

Codifying the Processes for Rejecting Direct Access Applications

59. We next revise § 52.15(g)(3) of the Commission's rules to authorize the Bureau to reject an application when it determines the applicant cannot satisfy the qualifications for a direct access authorization or that granting the application would not be in the public interest. We also adopt the proposal to authorize the Bureau, in its discretion, to reject applications submitted by an applicant which it has a reasonable basis to believe has engaged in behavior contrary to the public interest. As described above, we also authorize the Bureau to reject an application if it determines that the applicant made a false or misleading statement. We further conclude that the Bureau may reject applications if, for example, the Commission determines that an applicant with reportable foreign ownership presents national security, law enforcement, foreign policy, and/or trade policy risks. Next, to improve transparency, we also direct the Bureau to announce rejection decisions, the reasons for the rejection, and whether they are with or without prejudice via public notice. The record supports this action with no opposition. Similar to our action described above regarding codifying the Bureau's review process, this action codifying the Bureau's authority to reject applications makes explicit a practice that already occurs under our current rules. We believe this delegation of authority formalizing these practices leads to greater transparency and predictability.

Revocation of Authorization

60. We next adopt procedures concerning the grounds for revocation and/or termination of direct access to numbers authorizations. Specifically, we find that the Commission may revoke and/or terminate direct access to numbers authorizations of interconnected VoIP providers for failure to comply with the Communications Act of 1934, as amended (Act) and its implementing rules, other applicable laws and regulations, and/or where retention of those authorizations no longer serves the public interest. The Commission's Bureaus and Offices have revoked and/or terminated licenses and authorizations where warranted and within the scope of their authority. We revise § 52.15(g)(3) of the Commission's rules to specify the grounds on which we can revoke and/or terminate direct access authorizations, namely if: the authorization holder has failed to comply with the Commission's numbering rules; the authorization holder no longer meets the qualifications for a direct access authorization (e.g., the authorization holder no longer meets the application certification requirements or the conditions applicable to authorization holders under the Commission's rules); the Commission uses the term “termination” where an authorization is terminated based on the authorization holder's failure to comply with a condition of the authorization, and has determined that the procedures applicable to termination need not mirror the procedures used for revocation of authorizations; the authorization holder, or officer or authorized representative of the authorization holder, has made a false statement or certification to the Commission; or revoking and/or terminating the authorization is in the public interest (e.g., the Commission's assessment of the record evidence, including any filing by the Executive Branch agencies stating that retention of the authorization presents national security, law enforcement, foreign policy, and/or trade policy concerns and/or violates the terms of a mitigation agreement reached with the Executive Branch agencies).

61. We delegate authority to the Bureau and the Enforcement Bureau to determine appropriate procedures and initiate revocation and/or termination proceedings and to revoke and/or terminate an authorization, as required by due process and applicable law and in light of the relevant facts and circumstances, including providing the authorization holder with notice and opportunity to respond. In recent revocation proceedings, the Commission exercised its discretion to “resolve disputes of fact in an informal hearing proceeding on a written record,” and reasonably determined that the issues raised in those cases could be properly resolved through the presentation and exchange of full written submissions before the Commission itself.

62. We also delegate authority to the Bureau and the Enforcement Bureau to direct the Numbering Administrator to suspend the authorization holder's access to new numbering resources after either bureau determines that the authorization holder acted willfully; or public health, interest, or safety requires an immediate suspension; or after giving the authorization holder notice and an opportunity to demonstrate or achieve compliance with our rules. Once either bureau revokes and/or terminates the authorization, the interconnected VoIP provider may no longer obtain additional numbers from the Numbering Administrator. While we do not at this time require an interconnected VoIP provider to return its numbers once the Bureau has revoked its direct access authorization, we refer to the NANC how such a requirement would impact consumers, end-users, and providers, and whether such a requirement would be feasible. Relatedly, we also do not at this time restrict such providers from accessing numbering databases that may be necessary for providing service, such as routing and porting, for numbers it already has. Interconnected VoIP providers that have had their authorizations revoked may reapply for a new authorization if they can demonstrate that they have cured the grounds for the revocation and have taken measures to ensure they will not arise again. At this time, we decline to adopt number reclamation as a consequence of a revocation of direct access authorization. We refer the issue of the impact of number reclamation on consumers and end-users to the NANC. We therefore note that a revocation of direct access authorization does not obviate an interconnected VoIP provider's obligations under our rules with respect to the numbering resources it still maintains. These obligations include, e.g., filing NRUF reports, making NANP cost-support contributions, and updating the Reassigned Numbers Database.

63. As affirmed recently in our Caller ID Authentication Sixth Report and Order, 88 FR 29035 (May 5, 2023), where the Commission grants a right or privilege, it unquestionably has the right to revoke or deny that right or privilege in appropriate circumstances. In addition, holders of these and all Commission authorizations have a clear and demonstrable duty to operate in the public interest. The action we take in this document promotes transparency into our direct access authorization enforcement mechanisms by formalizing in our rules the procedure by which we will revoke such authorizations. This step will put bad actors on notice regarding the consequences they will face if they flout the rules. Our delegation of authority to the Bureaus will permit efficient processing of revocations, allowing the Commission to respond to bad actors in a timely manner.

64. The record overwhelmingly supports these proposals. One commenter, for example, states that “[i]t is important for the Commission to affirm its commitment to invoking this enforcement authority, because complaints under section 208 cannot be brought against VoIP providers, given their lack of common carrier status. Use of this enforcement authority with respect to VoIP entities will help `combat access stimulation and other intercarrier compensation abuses. . . .' ” Similarly, another commenter states “if a Direct Access grantee is clearly found to be engaged in [intercarrier compensation] arbitrage abuse, the FCC must impose real consequences for such abuses because VoIP providers and other noncommon carrier Direct Access grantees are not subject to section 208 of the Communications Act.”

North American Numbering Council Referrals

65. Number use and resale generally. The VoIP Direct Access FNPRM, 86 FR 51081 (Sept. 14, 2021), sought comment on whether direct access applicants should certify that the numbers they are applying for will only be used to provide interconnected VoIP services. The record we received regarding this issue was insufficient for us to determine precisely how interconnected VoIP providers are using the numbers they obtain, whether any such uses result in violations of our rules, and whether any further restrictions would have anticompetitive effects or impair neutrality with respect to technology. While the revised certifications and accompanying obligations we adopt herein should substantially aid our efforts to curtail unlawful uses of numbering resources, questions remain as to how numbers obtained by interconnected VoIP providers may continue to facilitate illegal robocalling or access stimulation, as well as how our policies affect number exhaustion in particular area codes. The NANC is entrusted with advising the Commission on numbering policy and technical issues associated with numbering “in the changing world of communications” and must ensure that the NANP administration does not unduly favor or disfavor one technology over another. In light of the limited record on this important issue of number use by interconnected VoIP providers, including number use by direct and indirect customers of such providers and further consideration of additional measures to combat illegal robocalls such as know-your-customer obligations, we therefore direct the Bureau to request that the NANC examine and report on: (1) how interconnected VoIP providers that obtain direct access to numbers are using those numbering resources today, including, for example, the extent to which they use numbers obtained in a state to serve the customers of that state, the extent to which they use numbers obtained via direct access to provide non-interconnected VoIP service, and the extent to which numbers obtained via direct access are resold to other providers; (2) those uses in terms of compliance with the Commission's robocalling, Access Stimulation and other rules, area code exhaustion, and other public interest concerns, including potential consumer benefits or competitive harms of increasing the availability of direct access to numbers or placing more limits on the use of numbers obtained via direct access; and (3) possible options for mitigating any identified adverse impacts on consumers of number disuse, misuse, and resale, and how any Commission-imposed requirements for, or limits on, number use or resale would impact consumers, providers, and competition. We additionally require that the NANC examine, in considering how to minimize the adverse impacts on consumers and/or area code exhaustion arising from interconnected VoIP providers obtaining numbers in a state where they serve few or no customers, the efficacy of Commission adoption of a “minimum contacts” requirement to obtain numbering resources in a particular state; and possible options for defining such a standard.

66. Foreign-originated calls and use of numbers obtained indirectly. Questions also remain regarding the use of U.S. NANP numbers for calls that originate abroad and terminate in the U.S. market. In the Fifth Caller ID Authentication FNPRM, 87 FR 42670 (July 18, 2022), we sought comment on whether we should restrict the use of domestic numbering resources for such calls in order to prevent illegal robocalls, and whether other countries' regulations provide a useful roadmap for our own. We also sought comment on whether we should restrict indirect access to numbers (e.g., numbers obtained on the secondary market) by both interconnected VoIP providers and carriers generally, or only for numbers that would be used in foreign-originated calls.

67. Commenters in that proceeding agreed that some entities are increasingly using numbers obtained, particularly through indirect access, to originate illegal robocalls. TNS recently noted that “numbers may be purchased separately with one provider and linked with outbound calling minutes from a second,” which it argued “is a major source of bad actor traffic.” Indeed, the success of STIR/SHAKEN “may already be responsible for some bad actors shifting to acquiring batches of real numbers instead of spoofing.” Commenters disagreed, however, on whether and what steps should be taken to prevent such abuse, including the appropriate liability standard, and whether restrictions should apply to all providers or solely to interconnected VoIP providers. Commenters urged the Commission to proceed cautiously when considering restrictions. Notably, no party in that proceeding addressed the merits of specific foreign restrictions on numbering usage raised in the Caller ID Authentication Fifth FNPRM, 87 FR 42670 (July 18, 2022), and their applicability to the U.S. marketplace.

68. In light of the complexity of numbering arrangements, the mixed record in this and related proceedings where this issue has arisen, and limited comment on the specific number usage restrictions in place in other countries, we agree with commenters in the Call Authentication Trust Anchor docket who argue that we should proceed cautiously. We therefore direct the Bureau to request that the NANC examine and report on: the use of numbers obtained on the secondary market; numbers obtained on the secondary market would include, e.g., numbers obtained from a reseller or a carrier partner. As part of its referral, the Bureau may choose to include direction to investigate issues or proposals related to number misuse it concludes may benefit from focused NANC examination, including proposals raised by commenters in the record of this and other related proceedings.

69. Supplying numbers to customers on a trial basis. In the VoIP Direct Access FNPRM, 86 FR 51081 (Sept. 14, 2021), we asked whether we should require direct access applicants to certify that they will not supply numbers on a trial basis to new customers (i.e., use of numbers for free for the first 30 days, etc.), a practice that commonly leads to bad actors gaining temporary control over numbers for the purposes of including misleading caller ID information. While some commenters agreed that supplying numbering resources for trial use can facilitate illegal robocalls, they provided no data to support their assertions. Accordingly, we refer this issue to the NANC for further study. We expect that this, and our other referrals to the NANC concerning number use, will give us a fuller picture regarding the customers' use of numbering resources, and thereby aid our future consideration of whether to impose a know-your-customer certification requirement. Specifically, we direct the Bureau to request that the NANC examine and report on: the practice of direct access authorization holders supplying telephone numbers to customers on a trial basis; the use of such “trial basis” numbers to engage in illegal robocalling, spoofing, or fraud; the effect on authorization holders in the event of a Commission prohibition on providing numbers on a trial basis; and the effect of supplying telephone numbers to customers on a trial basis on numbering resource exhaust.

70. Number reclamation. In the VoIP Direct Access FNPRM, 86 FR 51081 (Sept. 14, 2021), we sought comment on whether we should require an interconnected VoIP provider that has had its direct access authorization revoked to return the numbers that it has already obtained directly. Some commenters expressed concern that reclaiming numbers when direct access authority is revoked could have potential negative impacts on consumers, and that we should have proper procedures in place to mitigate these impacts. In light of the paucity of data submitted in the record, and in order to ensure that number reclamation as a consequence of a revocation of direct access authorization will not have a negative impact on consumers, we direct the NANC to study the benefits, risks, and solutions regarding reclamation of numbers when a direct access authorization is revoked, and the impact to consumers and end-users. Specifically, we direct the Bureau to request that the NANC examine and report on: the potential impact on consumers, end-users, and providers of number reclamation as a consequence of direct access authorization revocation; how providers or the Commission could mitigate any identifiable negative impacts for consumers and end-users; and how to accomplish returning reclaimed numbers to providers with reinstated direct access authorization. In its analysis, the NANC should additionally describe how interconnected VoIP providers use numbering databases in providing service, and how a restriction on accessing such databases would impact consumers, end-users, and providers.

Cost-Benefit Analysis

71. The rule clarifications and formalizations adopted in the Second Report and Order generally reflect a mandate from the TRACED Act. We conclude that the expected benefits will exceed the costs, which are minimal. The Commission found in the Caller ID Authentication First Report and Order, 85 FR 22029 (April 21, 2020), that widespread deployment of the STIR/SHAKEN framework will increase its effectiveness for both voice service providers and their subscribers, producing a potential annual benefit floor of $13.5 billion due to the reduction in nuisance calls and fraud. In addition, the Commission identified many non-quantifiable benefits, such as restoring confidence in incoming calls and ensuring reliable access to emergency and healthcare communications. The rules we adopt in the Second Report and Order are intended, consistent with the TRACED Act, to help unlock those benefits. As the Commission has noted, an overall reduction in illegal robocalls will greatly lower network costs by eliminating both the unwanted traffic and the labor costs of handling numerous customer complaints. The certifications and disclosures we adopt place minimal burdens on interconnected VoIP providers, and our formalization of the direct access application review process will ensure efficient use of staff time, imposing appropriately small costs on Commission staff. We therefore conclude that the rules we adopt in the Second Report and Order will impose only a minimal cost on direct access applicants while having the overall effect of materially lowering network costs and raising consumer benefits.

Legal Authority

72. The VoIP Direct Access FNPRM, 86 FR 51081 (Sept. 14, 2021), proposed concluding that our authority for adopting the new or revised direct access to numbers application requirements for interconnected VoIP providers arises from section 251(e) of the Act and section 6(a) of the TRACED Act. No commenter opposed these proposals regarding the basis for our legal authority to adopt the requirements described in the Second Report and Order. We conclude that section 251(e) of the Act provides sufficient authority for the requirements adopted in this Report and Order and that section 6(a) of the TRACED Act provides both supplemental and independent authority for those requirements specifically related to fighting illegal robocalls.

73. Section 251(e)(1) of the Act grants the Commission “exclusive jurisdiction over those portions of the North American Numbering Plan that pertain to the United States.” Based on this grant, in the VoIP Direct Access Order, 80 FR 66454 (Oct. 29, 2015), the Commission concluded that section 251(e)(1) provided it with authority “to extend to interconnected VoIP providers both the rights and obligations associated with using telephone numbers.” The Commission also has relied on section 251(e)(1) to require interconnected and one-way VoIP providers to implement the STIR/SHAKEN caller ID authentication framework and allow customers to reach the National Suicide Prevention Lifeline by dialing 988. Consistent with the Commission's well-established reliance on section 251(e) numbering authority with respect to interconnected VoIP providers, we conclude that section 251(e)(1) allows us to further refine our processes and requirements governing direct access to numbers by interconnected VoIP providers.

74. We further conclude that section 6(a) of the TRACED Act provides us with separate, additional authority to adopt our proposals related to fighting illegal robocalls. Section 6(a)(1) gives the Commission authority “to determine how Commission policies regarding access to number resources, including number resources for toll free and non-toll free telephone numbers, could be modified, including by establishing registration and compliance obligations,” and to “take sufficient steps to know the identity of the customers of such providers [of voice services], to help reduce access to numbers by potential perpetrators of violations of section 227(b) of the Communications Act of 1934 (47 U.S.C. 227(b)).”

75. The Commission commenced the required proceeding pursuant to the TRACED Act in March 2020, and expanded on those inquiries in the VoIP Direct Access FNPRM, 86 FR 51081 (Sept. 14, 2021). Section 6(a)(2) of the TRACED Act states that “[i]f the Commission determines under paragraph (1) that modifying the policies described in that paragraph could help achieve the goal described in that paragraph, the Commission shall prescribe regulations to implement those policy modifications.” We conclude that section 6(a) of the TRACED Act, in directing us to prescribe regulations implementing policy changes to reduce access to numbers by potential perpetrators of illegal robocalls, provides an independent basis to adopt certain of the rule changes we are making to the direct access process with respect to fighting unlawful robocalls.

Procedural Matters

76. Regulatory Flexibility Act. The Regulatory Flexibility Act of 1980, as amended (RFA), requires that an agency prepare a regulatory flexibility analysis for notice and comment rulemakings, unless the agency certifies that “the rule will not, if promulgated, have a significant economic impact on a substantial number of small entities.” Accordingly, we have prepared a Final Regulatory Flexibility Analysis (FRFA) concerning the possible impact of the rule changes contained in the Second Report and Order on small entities.

77. Paperwork Reduction Act. This document may contain new or modified information collection requirements subject to the Paperwork Reduction Act of 1995 (PRA), Public Law 104-13. Specifically, the rules adopted in 47 CFR 52.15(g)(3)(ii)(B) through (F), (I), (K), (L), and (N) and (g)(3)(x)(A) may require new or modified information collections. All such new or modified information collection requirements will be submitted to the Office of Management and Budget (OMB) for review under section 3507(d) of the PRA. OMB, the general public, and other Federal agencies will be invited to comment on the new or modified information collection requirements contained in this proceeding. In addition, we note that pursuant to the Small Business Paperwork Relief Act of 2002, Public Law 107-198, see 44 U.S.C. 3506(c)(4), we previously sought specific comment on how the Commission might further reduce the information collection burden for small business concerns with fewer than 25 employees. In this document, we describe several steps we have taken to minimize the information collection burdens on small entities.

78. Contact Person. For further information about this proceeding, please contact Mason Shefa, FCC Wireline Competition Bureau, Competition Policy Division, at (202) 418-2494, or mason.shefa@fcc.gov.

Ordering Clauses

79. Accordingly, it is ordered that pursuant to sections 1, 3, 4, 201 through 205, 227b-1, 251, and 303(r) of the Communications Act of 1934, as amended, 47 U.S.C. 151, 153, 154, 201 through 205, 227b-1, 251, 303(r), and section 6(a) of the TRACED Act, Public Law 116-105, 6(a)(1) through (2), 133 Stat. 3274, 3277 (2019), the Second Report and Order hereby is adopted and part 52 of the Commission's Rules, 47 CFR part 52, is amended. The Second Report and Order shall become effective 30 days after publication in the Federal Register, except for 47 CFR 52.15(g)(3)(ii)(B) through (F), (I), (K), (L), and (N) and (g)(3)(x)(A), which shall become effective upon an announcement in the Federal Register of OMB review and an effective date of those rules.

80. It is further ordered that the Commission's Office of the Secretary, Reference Information Center, shall send a copy of the Second Report and Order, including the Final Regulatory Flexibility Analysis and Initial Regulatory Flexibility Analysis, to the Chief Counsel for Advocacy of the Small Business Administration.

81. it is further ordered that the Office of the Managing Director, Performance Evaluation and Records Management, shall send a copy of the Second Report and Order in a report to be sent to Congress and the Government Accountability Office pursuant to the Congressional Review Act, see 5 U.S.C. 801(a)(1)(A).

Final Regulatory Flexibility Analysis

Need for, and Objectives of, the Second Report and Order

82. The Second Report and Order takes important steps aimed at stemming the tide of illegal robocalls perpetrated by interconnected VoIP providers and protecting the Nation's numbering resources from abuse by foreign bad actors by strategically updating the Commission's rules regarding how such providers obtain nationwide authorization for direct access to our Nation's limited numbering resources.

83. First, the Second Report and Order requires applicants to make robocall-related certifications to ensure compliance with the Commission's rules targeting illegal robocalls. Second, to mitigate the risk of providing bad actors abroad with access to our numbering resources, it requires applicants to disclose and keep current information about their ownership. Third, it requires applicants to certify to their compliance with other Commission rules applicable to interconnected VoIP providers. Fourth, it requires providers requesting numbers from a state's numbering administrator to comply with the state's laws and registration requirements that are applicable to businesses requesting numbers in that state. Fifth, it requires applicants to include a signed declaration that their applications are true and accurate. Sixth, and finally, it formalizes the Bureau's application review, application rejection, and authorization revocation processes.

Summary of Significant Issues Raised by Public Comments in Response to the Initial Regulatory Flexibility Analysis (IRFA)

84. There were no comments raised that specifically addressed the proposed rules and policies presented in the IRFA. Nonetheless, the Commission considered the potential impact of the rules proposed in the IRFA on small entities and took steps where appropriate and feasible to reduce the compliance burden for small entities in order to reduce the economic impact of the rules enacted herein on such entities.

Response to Comments by the Chief Counsel for Advocacy of the Small Business Administration

85. Pursuant to the Small Business Jobs Act of 2010, which amended the RFA, the Commission is required to respond to any comments filed by the Chief Counsel for Advocacy of the Small Business Administration (SBA), and to provide a detailed statement of any change made to the proposed rules as a result of those comments. The Chief Counsel did not file any comments in response to the proposed rules in this proceeding.

Description and Estimate of the Number of Small Entities to Which the Rules Will Apply

86. The RFA directs agencies to provide a description of, and where feasible, an estimate of the number of small entities that may be affected by the rules adopted herein. The RFA generally defines the term “small entity” as having the same meaning as the terms “small business,” “small organization,” and “small governmental jurisdiction.” In addition, the term “small business” has the same meaning as the term “small-business concern” under the Small Business Act. A “small-business concern” is one which: (1) is independently owned and operated; (2) is not dominant in its field of operation; and (3) satisfies any additional criteria established by the SBA.

87. Small Businesses, Small Organizations, Small Governmental Jurisdictions. Our actions, over time, may affect small entities that are not easily categorized at present. We therefore describe, at the outset, three broad groups of small entities that could be directly affected herein. First, while there are industry specific size standards for small businesses that are used in the regulatory flexibility analysis, according to data from the SBA's Office of Advocacy, in general a small business is an independent business having fewer than 500 employees. These types of small businesses represent 99.9% of all businesses in the United States, which translates to 32.5 million businesses.

88. Next, the type of small entity described as a “small organization” is generally “any not-for-profit enterprise which is independently owned and operated and is not dominant in its field.” The Internal Revenue Service (IRS) uses a revenue benchmark of $50,000 or less to delineate its annual electronic filing requirements for small exempt organizations. Nationwide, for tax year 2020, there were approximately 447,689 small exempt organizations in the U.S. reporting revenues of $50,000 or less according to the registration and tax data for exempt organizations available from the IRS.

89. Finally, the small entity described as a “small governmental jurisdiction” is defined generally as “governments of cities, counties, towns, townships, villages, school districts, or special districts, with a population of less than fifty thousand.” U.S. Census Bureau data from the 2017 Census of Governments indicate there were 90,075 local governmental jurisdictions consisting of general purpose governments and special purpose governments in the United States. Of this number there were 36,931 general purpose governments (county, municipal and town or township) with populations of less than 50,000 and 12,040 special purpose governments—independent school district with enrollment populations of less than 50,000. Accordingly, based on the 2017 U.S. Census of Governments data, we estimate that at least 48,971 entities fall into the category of “small governmental jurisdictions.”

90. Wired Telecommunications Carriers. The U.S. Census Bureau defines this industry as establishments primarily engaged in operating and/or providing access to transmission facilities and infrastructure that they own and/or lease for the transmission of voice, data, text, sound, and video using wired communications networks. Transmission facilities may be based on a single technology or a combination of technologies. Establishments in this industry use the wired telecommunications network facilities that they operate to provide a variety of services, such as wired telephony services, including VoIP services, wired (cable) audio and video programming distribution, and wired broadband internet services. By exception, establishments providing satellite television distribution services using facilities and infrastructure that they operate are included in this industry. Wired Telecommunications Carriers are also referred to as wireline carriers or fixed local service providers. Fixed Local Service Providers include the following types of providers: Incumbent Local Exchange Carriers (ILECs), Competitive Access Providers (CAPs) and Competitive Local Exchange Carriers (CLECs), Cable/Coax CLECs, Interconnected VoIP Providers, Non-Interconnected VoIP Providers, Shared-Tenant Service Providers, Audio Bridge Service Providers, and Other Local Service Providers. Local Resellers fall into another U.S. Census Bureau industry group and therefore data for these providers is not included in this industry.

91. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2022 Universal Service Monitoring Report, as of December 31, 2021, there were 4,590 providers that reported they were engaged in the provision of fixed local services. Of these providers, the Commission estimates that 4,146 providers have 1,500 or fewer employees. Consequently, using the SBA's small business size standard, most of these providers can be considered small entities.

92. Local Exchange Carriers (LECs). Neither the Commission nor the SBA has developed a size standard for small businesses specifically applicable to local exchange services. Providers of these services include both incumbent and competitive local exchange service providers. Wired Telecommunications Carriers is the closest industry with an SBA small business size standard. Wired Telecommunications Carriers are also referred to as wireline carriers or fixed local service providers. Fixed Local Exchange Service Providers include the following types of providers: ILECs, CAPs and CLECs, Cable/Coax CLECs, Interconnected VoIP Providers, Non-Interconnected VoIP Providers, Shared-Tenant Service Providers, Audio Bridge Service Providers, Local Resellers, and Other Local Service Providers. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2022 Universal Service Monitoring Report, as of December 31, 2021, there were 4,590 providers that reported they were fixed local exchange service providers. Of these providers, the Commission estimates that 4,146 providers have 1,500 or fewer employees. Consequently, using the SBA's small business size standard, most of these providers can be considered small entities.

93. Incumbent Local Exchange Carriers (Incumbent LECs). Neither the Commission nor the SBA have developed a small business size standard specifically for incumbent local exchange carriers. Wired Telecommunications Carriers is the closest industry with an SBA small business size standard. The SBA small business size standard for Wired Telecommunications Carriers classifies firms having 1,500 or fewer employees as small. U.S. Census Bureau data for 2017 show that there were 3,054 firms in this industry that operated for the entire year. Of this number, 2,964 firms operated with fewer than 250 employees. Additionally, based on Commission data in the 2022 Universal Service Monitoring Report, as of December 31, 2021, there were 1,212 providers that reported they were incumbent local exchange service providers. Of these providers, the Commission estimates that 916 providers have 1,500 or fewer employees. Consequently, using the SBA's small business size standard, the Commission estimates that the majority of incumbent local exchange carriers can be considered small entities.

94. Competitive Local Exchange Carriers (LECs). Neither the Commission nor the SBA has developed a size standard for small businesses specifically applicable to local exchange services. Providers of these services include several types of competitive local exchange service providers. Competitive Local Exchange Service Providers include the following types of providers: CAPs and CLECs, Cable/Coax CLECs, Interconnected VoIP Providers, Non-Interconnected VoIP Providers, Shared-Tenant Service Providers, Audio Bridge Service Providers, Local Resellers, and Other Local Service Providers. Wired Telecommunications Carriers is the closest industry with an SBA small business size standard. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2022 Universal Service Monitoring Report, as of December 31, 2021, there were 3,378 providers that reported they were competitive local exchange service providers. Of these providers, the Commission estimates that 3,230 providers have 1,500 or fewer employees. Consequently, using the SBA's small business size standard, most of these providers can be considered small entities.

95. Interexchange Carriers (IXCs). Neither the Commission nor the SBA has developed a small business size standard specifically for Interexchange Carriers. Wired Telecommunications Carriers is the closest industry with an SBA small business size standard. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2022 Universal Service Monitoring Report, as of December 31, 2021, there were 127 providers that reported they were engaged in the provision of interexchange services. Of these providers, the Commission estimates that 109 providers have 1,500 or fewer employees. Consequently, using the SBA's small business size standard, the Commission estimates that the majority of providers in this industry can be considered small entities.

96. Wireless Telecommunications Carriers (except Satellite). This industry comprises establishments engaged in operating and maintaining switching and transmission facilities to provide communications via the airwaves. Establishments in this industry have spectrum licenses and provide services using that spectrum, such as cellular services, paging services, wireless internet access, and wireless video services. The SBA size standard for this industry classifies a business as small if it has 1,500 or fewer employees. U.S. Census Bureau data for 2017 show that there were 2,893 firms in this industry that operated for the entire year. Of that number, 2,837 firms employed fewer than 250 employees. Additionally, based on Commission data in the 2022 Universal Service Monitoring Report, as of December 31, 2021, there were 594 providers that reported they were engaged in the provision of wireless services. Of these providers, the Commission estimates that 511 providers have 1,500 or fewer employees. Consequently, using the SBA's small business size standard, most of these providers can be considered small entities.

97. Local Resellers. Neither the Commission nor the SBA have developed a small business size standard specifically for Local Resellers. Telecommunications Resellers is the closest industry with a SBA small business size standard. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. The SBA small business size standard for Telecommunications Resellers classifies a business as small if it has 1,500 or fewer employees. U.S. Census Bureau data for 2017 show that 1,386 firms in this industry provided resale services for the entire year. Of that number, 1,375 firms operated with fewer than 250 employees. Additionally, based on Commission data in the 2022 Universal Service Monitoring Report, as of December 31, 2021, there were 207 providers that reported they were engaged in the provision of local resale services. Of these providers, the Commission estimates that 202 providers have 1,500 or fewer employees. Consequently, using the SBA's small business size standard, most of these providers can be considered small entities.

98. Toll Resellers. Neither the Commission nor the SBA have developed a small business size standard specifically for Toll Resellers. Telecommunications Resellers is the closest industry with an SBA small business size standard. The Telecommunications Resellers industry comprises establishments engaged in purchasing access and network capacity from owners and operators of telecommunications networks and reselling wired and wireless telecommunications services (except satellite) to businesses and households. Establishments in this industry resell telecommunications; they do not operate transmission facilities and infrastructure. MVNOs are included in this industry. The SBA small business size standard for Telecommunications Resellers classifies a business as small if it has 1,500 or fewer employees. U.S. Census Bureau data for 2017 show that 1,386 firms in this industry provided resale services for the entire year. Of that number, 1,375 firms operated with fewer than 250 employees. Additionally, based on Commission data in the 2022 Universal Service Monitoring Report, as of December 31, 2021, there were 457 providers that reported they were engaged in the provision of toll services. Of these providers, the Commission estimates that 438 providers have 1,500 or fewer employees. Consequently, using the SBA's small business size standard, most of these providers can be considered small entities.

99. All Other Telecommunications. This industry is comprised of establishments primarily engaged in providing specialized telecommunications services, such as satellite tracking, communications telemetry, and radar station operation. This industry also includes establishments primarily engaged in providing satellite terminal stations and associated facilities connected with one or more terrestrial systems and capable of transmitting telecommunications to, and receiving telecommunications from, satellite systems. Providers of internet services (e.g., dial-up ISPs) or voice over internet protocol (VoIP) services, via client-supplied telecommunications connections are also included in this industry. The SBA small business size standard for this industry classifies firms with annual receipts of $35 million or less as small. U.S. Census Bureau data for 2017 show that there were 1,079 firms in this industry that operated for the entire year. Of those firms, 1,039 had revenue of less than $25 million. Based on this data, the Commission estimates that the majority of “All Other Telecommunications” firms can be considered small.

Description of Projected Reporting, Recordkeeping, and Other Compliance Requirements for Small Entities

100. In the Second Report and Order, we adopt new certifications and disclosures in our direct access application process for all interconnected VoIP provider applicants. Upon the effective date of these rules, we require explicit acknowledgment of compliance with all robocall regulations; implement disclosure and update requirements regarding ownership and control; require certification of compliance with other applicable Commission regulations and certain state law; and add a declaration requirement to hold applicants accountable for the truthfulness and accuracy of their direct access applications.

101. Specifically, we require a direct access applicant to certify that it will use numbering resources lawfully and will not knowingly encourage, assist, or facilitate illegal robocalls, illegal spoofing, or fraud. If the applicant has a foreign owner whose interest exceeds the reporting threshold set forth in § 63.18(h) of our rules, those applications will be placed on a “non-streamlined” processing track. We require applicants for a Commission direct access authorization to disclose information, including the name, address, country of citizenship, and principal business of every person or entity that directly or indirectly owns at least ten percent of the equity and/or voting interest, or a controlling interest, of the applicant, and the percentage of equity and/or voting interest owned by each of those entities to the nearest one percent, consistent with the requirements of international section 214 applicants. Also consistent with section 214, we require an applicant to certify whether it is, or is affiliated with, a foreign carrier, and cross-reference with § 63.18(i) for consistency. A chart or narrative describing the applicant's corporate structure is also required for interconnected VoIP applicants.

102. To ensure ownership information remains up to date, the Second Report and Order revises § 52.15(g)(3) to require interconnected VoIP providers that obtain direct access authorization under the revised rules to submit an update to the Commission and each applicable state within 30 days of any change to the ownership information disclosed in their direct access applications. Authorization holders are also required to submit updated or corrected ownership information to the states for which they have acquired or requested numbers at the time of the ownership change and in the same manner the providers would submit a correction or update to their original applications. We also revise § 52.15(g)(3) to require applicants to certify their compliance with the Communications Assistance with Law Enforcement Act (CALEA), and provide evidence in their applications that demonstrates their compliance with both CALEA and the Commission's part 9 public safety rules. A new certification cross-references new access arbitrage rules, thus revising § 52.15(g)(3) to require interconnected VoIP providers applying for direct access to numbers to certify that they will not use numbering resources to evade our access stimulation rules. Interconnected VoIP providers that must file FCC Forms 477 and 499 will now provide evidence that they have complied with these obligations, and any successor filing obligations, when filing a direct access application.

103. The Second Report and Order further revises § 52.15(g)(3) of our rules to require an officer or authorized employee representative of the applicant to submit a declaration under penalty of perjury, pursuant to § 1.16 of the rules, attesting that all statements in the application and any appendices are true and accurate. All updated or corrected ownership information shall be filed though existing methods such as the Electronic Comment Filing System (ECFS) through the Direct Access intake docket (Inbox 52.15) and via email to DAA@fcc.gov, unless the Bureau specifies another method. The Bureau may request additional documentation as necessary, during and after its initial review of a direct access application.

104. After reviewing the record, we received no concerns about unique burdens from small businesses that would be impacted by the new certifications adopted in the Second Report and Order. As such, the Commission does not have sufficient information on the record to determine whether small entities will be required to hire professionals to comply with its decisions or to quantify the cost of compliance for small entities. The Commission, however, anticipates the approaches it has taken to implement the requirements will have minimal or de minimis cost implications because many of these obligations are required to comply with existing Commission regulations.

Steps Taken To Minimize the Significant Economic Impact on Small Entities, and Significant Alternatives Considered

105. The RFA requires an agency to provide “a description of the steps the agency has taken to minimize the significant economic impact on small entities . . . including a statement of the factual, policy, and legal reasons for selecting the alternative adopted in the final rule and why each one of the other significant alternatives to the rule considered by the agency which affect the impact on small entities was rejected.”

106. The Second Report and Order considered alternatives that may reduce the impact of these rule changes on small entities. Some proposals were not adopted because the requirements already exist under other parts of the Commission's rules. New obligations regarding STIR/SHAKEN caller ID authentication or robocall mitigation specifically for interconnected VoIP providers were not adopted; instead applicants are required to certify compliance with preexisting rule sections. This reduces confusion and maintains accuracy should the Commission decide to revise the robocall-related dockets. We declined to adopt our proposal to require direct access authorization holders to certify on their applications, or inform the Commission if the authorization holder is subject to a Commission or other regulator or law enforcement investigation due to its robocall mitigation plan being deemed insufficient, or due to suspected unlawful robocalling or spoofing, because authorization holders are already required to do so under the Commission's rules.

107. There was not strong record support for certain proposals that require action of the Office of International Affairs (OIA) or the Bureau, so we declined to adopt those finding that it is more efficient to rely on current practices to address these concerns. These include automatic referral of interconnected VoIP providers' direct access applications to the Executive Branch agencies when an applicant has reportable foreign ownership, and developing a list of “Standard Questions” for interconnected VoIP applicants with reportable foreign ownership. We also declined to adopt rules to specify the documents that will be allowed to satisfy the “facilities readiness” requirement in the Commission's current rules. Comments on the issue were divided and we conclude that existing examples of technical documentation are sufficient. Further, after considering the record, we declined to adopt a know-your-customer certification proposal at this time.

108. As discussed above, the new certification requirements in the Second Report and Order are minimally burdensome, as they merely require providers to certify that they are compliant with preexisting Commission rules. Our public safety and CALEA documentation submission requirement merely formalizes existing Bureau practice of requesting such information from direct access applicants. Our new ownership disclosure requirement tracks requirements already imposed on providers in the section 214 context. For these reasons, we believe that small and other interconnected VoIP providers will not have an issue including these new certifications and disclosures in their direct access authorization applications.

Report to Congress

109. The Commission will send a copy of the Second Report and Order, including the FRFA, in a report to be sent to Congress pursuant to the Congressional Review Act. In addition, the Commission will send a copy of the Second Report and Order, including the FRFA, to the Chief Counsel for Advocacy of the Small Business Administration.

List of Subjects in 47 CFR Part 52

Communications common carriers, Telecommunications, Telephone.

Federal Communications Commission.
Marlene Dortch,
Secretary.

Final Rules

For the reasons discussed in the preamble, the Federal Communications Commission amends 47 CFR part 52 as follows:

PART 52—NUMBERING

1. The authority citation for part 52 continues to read as follows:

Authority: 47 U.S.C. 151, 152, 153, 154, 155, 201-205, 207-209, 218, 225-227, 251-252, 271, 303, 332, unless otherwise noted.

2. Amend § 52.15 by revising and republishing paragraph (g)(3) to read as follows:

§ 52.15 Central office code administration.

* * * * *

(g) * * *

(3) Commission authorization process. A provider of interconnected VoIP service may show a Commission authorization obtained pursuant to this paragraph (g)(3) as evidence that it is authorized to provide service under paragraph (g)(2) of this section.

(i) Definition. The term foreign carrier found in this section is given the same meaning as in § 63.09(d) of this chapter.

(ii) Contents of the application for interconnected VoIP provider numbering authorization. An application for authorization must reference this section and must contain the following:

(A) The applicant's name, address, and telephone number and contact information for personnel qualified to address issues relating to regulatory requirements, compliance with Commission's rules in this chapter, 911, and law enforcement;

(B) An acknowledgment that the authorization granted under this paragraph (g)(3) is subject to compliance with applicable Commission numbering rules in this part; numbering authority delegated to the states; and industry guidelines and practices regarding numbering as applicable to telecommunications carriers;

(C)-(F) [Reserved]

(G) An acknowledgment that the applicant must file requests for numbers with the relevant state commission(s) at least 30 days before requesting numbers from the Numbering Administrators;

(H) Proof that the applicant is or will be capable of providing service within sixty (60) days of the numbering resources activation date in accordance with paragraph (g)(2) of this section;

(I) [Reserved]

(J) A certification that the applicant complies with its applicable Universal Service Fund contribution obligations under part 54, subpart H, of this chapter, its Telecommunications Relay Service contribution obligations under § 64.604(c)(5)(iii) of this chapter, its NANP and local number portability (LNP) administration contribution obligations under §§ 52.17 and 52.32 of this chapter, and its obligations to pay regulatory fees under § 1.1154 of this chapter;

(K) A certification that the applicant possesses the financial, managerial, and technical expertise to provide reliable service. This certification must include the name of applicant's key management and technical personnel, such as the Chief Operating Officer and the Chief Technology Officer, or equivalent, and state that none of the identified personnel are being or have been investigated by the Commission or any law enforcement or regulatory agency for failure to comply with any law, rule, or order; and

(L) [Reserved]

(M) A certification pursuant to §§ 1.2001 and 1.2002 of this chapter that no party to the application is subject to a denial of Federal benefits pursuant to section 5301 of the Anti-Drug Abuse Act of 1988, see 21 U.S.C. 862.

(N) [Reserved]

(iii) Filing procedure. An applicant for Commission authorization under this section must file its application electronically through the “Submit a Non-Docketed Filing” module of the Commission's Electronic Comment Filing System (ECFS). Each application shall be accompanied by the fee prescribed in part 1, subpart G, of this chapter.

(iv) Public notice and review period for streamlined pleading cycle. Upon determination by the Wireline Competition Bureau (Bureau) that the applicant has filed a complete application that is appropriate for streamlined treatment, the Bureau will assign a docket number to the application and issue a public notice stating that the application has been accepted for filing as a streamlined application. The applicant must make all subsequent filings relating to its application in this docket. Parties may file comments addressing an application for authorization no later than 15 days after the Bureau releases a public notice stating that the application has been accepted for filing, unless the public notice specifies a different filing date. An application under this section is deemed granted by the Commission on the 31st day after the Commission releases a public notice stating that the application has been accepted for filing, unless the Bureau notifies the applicant that the grant will not be automatically effective.

(v) Non-streamlined processing of applications. If an application discloses that the applicant has reportable ownership by a foreign person or entity, the Bureau shall remove the application from streamlined processing. The Bureau may also remove an application from streamlined processing at its discretion for other reasons. The Bureau shall notify the applicant by public notice that it is removing the application from streamlined processing, and shall state the reason for the removal. An application may also receive non-streamlined processing if:

(A) An applicant fails to respond promptly to Commission inquiries;

(B) An application is associated with a non-routine request for waiver of the Commission's rules in this chapter;

(C) An application would, on its face, violate a Commission rule in this chapter or the Communications Act;

(D) Timely filed comments on the application raise public interest concerns that require further Commission review; or

(E) The Bureau determines that the application requires further analysis to determine whether granting the application serves the public interest.

(vi) Additional information. Applicants must provide additional information requested by the Bureau during and after its initial review of a direct access application. Failure to respond to such a request or other official correspondence may result in the rejection of the application without prejudice. Any additional information that the Bureau may require must be submitted in the same manner as the original application filing, unless the Bureau specifies another method.

(vii) Rejection of applications. The Bureau may reject an application by announcing the rejection, the reasons for the rejection, and whether the rejection is with or without prejudice via public notice if it determines or has a reasonable basis to believe that:

(A) The applicant cannot satisfy the qualification requirements for a Commission authorization under this paragraph (g)(3);

(B) The applicant has made a false statement or certification to the Commission;

(C) The applicant has engaged in behavior contrary to the public interest; or

(D) Granting the application would not serve the public interest.

(viii) Authorization suspension. The Wireline Competition Bureau or Enforcement Bureau may suspend a direct access authorization holder's access to new numbering resources under 5 U.S.C. 558(c):

(A) After either Bureau determines that the authorization holder acted willfully; or public health, interest, or safety requires an immediate suspension; or

(B) After giving the authorization holder notice and an opportunity to demonstrate compliance with the Commission's rules in this chapter.

(ix) Authorization revocation. The Wireline Competition Bureau or Enforcement Bureau shall determine appropriate procedures and initiate revocation and/or termination proceedings and revoke and/or terminate an authorization, as required by due process and applicable law and in light of the relevant facts and circumstances, including providing the authorization holder with notice and opportunity to respond. Either Bureau may commence such revocation and/or termination proceedings if:

(A) The authorization holder has failed to comply with the Commission's numbering rules in this part.

(B) The authorization holder no longer meets the requirements for a Commission authorization under this paragraph (g)(3);

(C) The authorization holder, or officer or authorized representative of the authorization holder, has made a false statement or certification to the Commission; or

(D) Revoking and/or terminating the authorization is in the public interest.

(x) Conditions applicable to all interconnected VoIP provider numbering authorizations. An interconnected VoIP provider authorized to request numbering resources directly from the Numbering Administrators under this section shall:

(A) Maintain the accuracy of all contact information and certifications in its application. If any contact information or certification is no longer accurate, the provider must file a correction with the Commission and each applicable state within thirty (30) days of the change of contact information or certification. The Commission may use the updated information or certification to determine whether a change in authorization status is warranted;

(B) Comply with the applicable Commission numbering rules in this part; numbering authority delegated to the states; and industry guidelines and practices regarding numbering as applicable to telecommunications carriers;

(C) File requests for numbers with the relevant state commission(s) at least thirty (30) days before requesting numbers from the Numbering Administrators; and

(D) Provide accurate regulatory and numbering contact information to each state commission when requesting numbers in that state.

* * * * *

3. Delayed indefinitely, further amend § 52.15 by:

a. Revising paragraph (g)(3)(ii)(B);

b. Adding paragraphs (g)(3)(ii)(C) through (F) and (I);

c. Revising paragraph (g)(3)(ii)(K);

d. Adding paragraph (g)(3)(ii)(L);

e. Removing the period at the end of paragraph (g)(3)(ii)(M) and adding “; and” in its place;

f. Adding paragraph (g)(3)(ii)(N); and

g. Revising paragraphs (g)(3)(iv) and (g)(3)(x)(A).

The additions and revisions read as follows:

§ 52.15 Central office code administration.

* * * * *

(g) * * *

(3) * * *

(ii) * * *

(B) An acknowledgment that the authorization granted under this paragraph (g)(3) is subject to compliance with applicable Commission numbering rules in this part; numbering authority delegated to the states, and the state laws, regulations, and registration requirements applicable to businesses operating in each state where the applicant seeks numbering resources; and industry guidelines and practices regarding numbering as applicable to telecommunications carriers;

(C) A certification that the applicant will not use the numbers obtained pursuant to an authorization under this paragraph (g)(3) to knowingly transmit, encourage, assist, or facilitate illegal robocalls, illegal spoofing, or fraud, in violation of robocall, spoofing, and deceptive telemarketing obligations under §§ 64.1200, 64.1604, and 64.6300 through 64.6308 of this chapter and 16 CFR 310.3(b);

(D) A certification that the applicant has fully complied with all applicable STIR/SHAKEN caller ID authentication and robocall mitigation program requirements and filed a certification in the Robocall Mitigation Database as required by §§ 64.6301 through 64.6305 of this chapter;

(E) A certification with accompanying evidence that the applicant complies with its 911 obligations under part 9 of this chapter, and that it complies with the provisions of the Communications Assistance with Law Enforcement Act, 47 U.S.C. 1001 et seq. Wireline Competition Bureau (Bureau) or other Commission staff may request additional documentation from the applicant to demonstrate compliance with these public safety obligations, where necessary;

(F) A certification that the applicant complies with the Access Stimulation rules under § 51.914 of this chapter;

* * * * *

(I) Proof that the applicant has filed FCC Forms 477 and 499, or a statement explaining why each such form is not yet applicable;

* * * * *

(K) A certification that the applicant possesses the financial, managerial, and technical expertise to provide reliable service. This certification must include the name of applicant's key management and technical personnel, such as the Chief Operating Officer and the Chief Technology Officer, or equivalent, and state that neither the applicant nor any of the identified personnel are being or have been investigated by the Commission, law enforcement, or any regulatory agency for failure to comply with any law, rule, or order, including the Commission's rules in this chapter applicable to unlawful robocalls or unlawful spoofing;

(L) The same information, disclosures, and certifications required by § 63.18(h) and (i) of this chapter;

* * * * *

(N) A declaration under penalty of perjury pursuant to § 1.16 of this chapter that all statements in the application and any appendices are true and accurate. This declaration shall be executed by an officer or other authorized representative of the applicant.

* * * * *

(iv) Public notice and review period for streamlined pleading cycle. Upon determination by the Bureau that the applicant has filed a complete application that is appropriate for streamlined treatment, the Bureau will assign a docket number to the application and issue a public notice stating that the application has been accepted for filing as a streamlined application. The applicant must make all subsequent filings relating to its application in this docket. Parties may file comments addressing an application for authorization no later than 15 days after the Bureau releases a public notice stating that the application has been accepted for filing, unless the public notice specifies a different filing date. An application under this section is deemed granted by the Commission on the 31st day after the Commission releases a public notice stating that the application has been accepted for filing, unless the Bureau notifies the applicant that the grant will not be automatically effective.

* * * * *

(x) * * *

(A) Maintain the accuracy of all contact information, certifications, and ownership or affiliation information in its application. If any contact information, certification, or affiliation information submitted in an application pursuant to this section, is no longer accurate, the provider must file a correction with the Commission and each applicable state within thirty (30) days of the change of contact information, certification, or affiliation information. Regarding ownership information, if the holders of equity and/or voting interests in the provider change such that a provider that previously did not have reportable ownership or control information under paragraph (g)(3)(ii)(L) of this section now has reportable ownership or control information, or there is a change to the reportable ownership or control information the provider previously reported under paragraph (g)(3)(ii)(L), the provider must file a correction with the Commission and each applicable state within thirty (30) days of the change to its ownership or control information. The Commission may use the updated contact information, certifications, or ownership or affiliation information to determine whether a change in authorization status is warranted;

* * * * *

[FR Doc. 2023-24679 Filed 11-17-23; 8:45 am]

BILLING CODE 6712-01-P